DEPARTMENT OF LABOR

Employment Standards Administration Wage and Hour Division

Minimum Wages for Federal and Federally Assisted Construction; General Wage Determination Decisions

General wage determination decisions of the Secretary of Labor are issued in accordance with applicable law and are based on the information obtained by the Department of Labor from its study of local wage conditions and data made available from other sources. They specify the basic hourly wage rates and fringe benefits which ae determined to be prevailing for the described classes of laborers and mechanics employed on construction projects of a similar character and in the localities specified therein.

The determinations in these decisions of prevailing rates and fringe benefits have been made in accordance with 29 CFR part 1, by authority of the Secretary of Labor pursuant to the provisions of the Davis-Bacon Act of March 3, 1931, as amended (46 Stat. 1494, as amended, 40 U.S.C. 27a) and of other Federal statutes referred to in 29 CFR part 1, Appendix, as well as such additional statutes as may from time to time be enacted containing provisions for the payment of wages determined to be prevailing by the Secretary of Labor in accordance with the Davis-Bacon Act. The prevailing rates and fringe benefits determined in these decisions shall, in accordance with the provisions of the foregoing statutes, constitute the minimum wages payable on Federal and federally assisted construction projects to laborers and mechanics of the specified classes engaged on contract work of the character and in teh localities described therein.

Good cause is hereby found for not utilizing notice and public comment procedure thereon prior to teh issuance of these determinations as prescribed in 5 U.S.C. 553 and not providing for delay in the effectibve date as prescribed in that section, because the necessity to issue current construction industry wage determination frequently and in large volume causes procedures to be impractical and contrary to the public interest.

General wage determination decisions, and modifications and supersedes decisions thereto, contain no expiration dates and effective from their date of notice in the Federal Register, or on the date written notice is received by the agency, whichever is earlier. These decisions are to be used in accordance with the provisions of 29 CFR parts 1 and 5. Accordingly, the applicable decision, together with any modifications issued, must be made a part of every contract for performance of the described work within the geographic area indicated as required by an applicable Federal prevailing wage law and 29 CFR part 5. The wage rates and fringe benefits, notice of which is published herein, and which are contained in the Government Printing Office (GPO) document entitled “General Wage Determinations Issued Under The Davis-Bacon And Related Acts,” shall be the minimum paid by contractors and subcontractors to laborers and mechanics.

Any person, organization, or government agency having an interest in the rates determined as prevailing is encouraged to submit wage rate and fringe benefit infomration for consideration by the Department. Further information and self-explanatory forms for the purpose of submitting this data may be obtained by writing to the U.S. Department of Labor, Employment Standards Administration, Wage and Hour Division, Division of Wage Determinations, 200 Constitution Avenue, NW., Room S-3014, Washington, DC 20210.

Supersedeas Decisions to General Wage Determination Decisions

The number of decisions being superseded and their date of notice in the Federal Register are listed with each State. Supersedeas decision numbers are in parentheses following the number of decisions being superseded.

Volume I

Connecticut

CT02-01 (Mar. 1, 2002)(CT03-01)

CT02-02 (Mar. 1, 2002)(CT03-02)

CT02-03 (Mar. 1, 2002)(CT03-03)

CT02-04 (Mar. 1, 2002)(CT03-04)

CT02-05 (Mar. 1, 2002)(CT03-05)

CT02-06 (Mar. 1, 2002)(CT03-06)

CT02-07 (Mar. 1, 2002)(CT03-07)

CT02-08 (Mar. 1, 2002)(CT03-08)

Massachusetts

MA02-01 (Mar. 1, 2002)(MA03-01)

MA02-02 (Mar. 1, 2002)(MA03-02)

MA02-03 (Mar. 1, 2002)(MA03-03)

MA02-04 (Mar. 1, 2002)(MA03-04)

MA02-05 (Mar. 1, 2002)(MA03-05)

MA02-06 (Mar. 1, 2002)(MA03-06)

MA02-07 (Mar. 1, 2002)(MA03-07)

MA02-08 (Mar. 1, 2002)(MA03-08)

MA02-09 (Mar. 1, 2002)(MA03-09)

MA02-10 (Mar. 1, 2002)(MA03-10)

MA02-11 (Mar. 1, 2002)(MA03-11)

MA02-12 (Mar. 1, 2002)(MA03-12)

MA02-13 (Mar. 1, 2002)(MA03-13)

MA02-14 (Mar. 1, 2002)(MA03-14)

MA02-15 (Mar. 1, 2002)(MA03-15)

MA02-16 (Mar. 1, 2002)(MA03-16)

MA02-17 (Mar. 1, 2002)(MA03-17)

MA02-18 (Mar. 1, 2002)(MA03-18)

MA02-19 (Mar. 1, 2002)(MA03-19)

MA02-20 (Mar. 1, 2002)(MA03-20)

MA02-21 (Mar. 1, 2002)(MA03-21)

Maine

ME02-01 (Mar. 1, 2002)(ME03-01)

ME02-02 (Mar. 1, 2002)(ME03-02)

ME02-03 (Mar. 1, 2002)(ME03-03)

ME02-04 (Mar. 1, 2002)(ME03-04)

ME02-05 (Mar. 1, 2002)(ME03-05)

ME02-06 (Mar. 1, 2002)(ME03-06)

ME02-07 (Mar. 1, 2002)(ME03-07)

ME02-08 (Mar. 1, 2002)(ME03-08)

ME02-09 (Mar. 1, 2002)(ME03-09)

ME02-10 (Mar. 1, 2002)(ME03-10)

ME02-11 (Mar. 1, 2002)(ME03-11)

ME02-12 (Mar. 1, 2002)(ME03-12)

ME02-13 (Mar. 1, 2002)(ME03-13)

ME02-14 (Mar. 1, 2002)(ME03-14)

ME02-15 (Mar. 1, 2002)(ME03-15)

ME02-16 (Mar. 1, 2002)(ME03-16)

New Hampshire

NH02-01 (Mar. 1, 2002)(NH03-01)

NH02-02 (Mar. 1, 2002)(NH03-02)

NH02-03 (Mar. 1, 2002)(NH03-03)

NH02-04 (Mar. 1, 2002)(NH03-04)

NH02-05 (Mar. 1, 2002)(NH03-05)

NH02-06 (Mar. 1, 2002)(NH03-06)

NH02-07 (Mar. 1, 2002)(NH03-07)

NH02-08 (Mar. 1, 2002)(NH03-08)

NH02-09 (Mar. 1, 2002)(NH03-09)

NH02-10 (Mar. 1, 2002)(NH03-10)

NH02-11 (Mar. 1, 2002)(NH03-11)

NH02-12 (Mar. 1, 2002)(NH03-12)

New Jersey

NJ02-01 (Mar. 1, 2002)(NJ03-01)

NJ02-02 (Mar. 1, 2002)(NJ03-02)

NJ02-03 (Mar. 1, 2002)(NJ03-03)

NJ02-04 (Mar. 1, 2002)(NJ03-04)

NJ02-05 (Mar. 1, 2002)(NJ03-05)

NJ02-06 (Mar. 1, 2002)(NJ03-06)

NJ02-07 (Mar. 1, 2002)(NJ03-07)

NJ02-08 (Mar. 1, 2002)(NJ03-08)

NJ02-09 (Mar. 1, 2002)(NJ03-09)

New York

NY02-01 (Mar. 1, 2002)(NY03-01)

NY02-02 (Mar. 1, 2002)(NY03-02)

NY02-03 (Mar. 1, 2002)(NY03-03)

NY02-04 (Mar. 1, 2002)(NY03-04)

NY02-05 (Mar. 1, 2002)(NY03-05)

NY02-06 (Mar. 1, 2002)(NY03-06)

NY02-07 (Mar. 1, 2002)(NY03-07)

NY02-08 (Mar. 1, 2002)(NY03-08)

NY02-09 (Mar. 1, 2002)(NY03-09)

NY02-10 (Mar. 1, 2002)(NY03-10)

NY02-11 (Mar. 1, 2002)(NY03-11)

NY02-12 (Mar. 1, 2002)(NY03-12)

NY02-13 (Mar. 1, 2002)(NY03-13)

NY02-14 (Mar. 1, 2002)(NY03-14)

NY02-15 (Mar. 1, 2002)(NY03-15)

NY02-16 (Mar. 1, 2002)(NY03-16)

NY02-17 (Mar. 1, 2002)(NY03-17)

NY02-18 (Mar. 1, 2002)(NY03-18)

NY02-19 (Mar. 1, 2002)(NY03-19)

NY02-20 (Mar. 1, 2002)(NY03-20)

NY02-21 (Mar. 1, 2002)(NY03-21)

NY02-22 (Mar. 1, 2002)(NY03-22)

NY02-23 (Mar. 1, 2002)(NY03-23)

NY02-24 (Mar. 1, 2002)(NY03-24)

NY02-25 (Mar. 1, 2002)(NY03-25)

NY02-26 (Mar. 1, 2002)(NY03-26)

NY02-27 (Mar. 1, 2002)(NY03-27)

NY02-28 (Mar. 1, 2002)(NY03-28)

NY02-29 (Mar. 1, 2002)(NY03-29)

NY02-30 (Mar. 1, 2002)(NY03-30)

NY02-31 (Mar. 1, 2002)(NY03-31)

NY02-32 (Mar. 1, 2002)(NY03-32)

NY02-33 (Mar. 1, 2002)(NY03-33)

NY02-34 (Mar. 1, 2002)(NY03-34)

NY02-35 (Mar. 1, 2002)(NY03-35)

NY02-36 (Mar. 1, 2002)(NY03-36)

NY02-37 (Mar. 1, 2002)(NY03-37)

NY02-38 (Mar. 1, 2002)(NY03-38)

NY02-39 (Mar. 1, 2002)(NY03-39)

NY02-40 (Mar. 1, 2002)(NY03-40)

NY02-41 (Mar. 1, 2002)(NY03-41)

NY02-42 (Mar. 1, 2002)(NY03-42)

NY02-43 (Mar. 1, 2002)(NY03-43)

NY02-44 (Mar. 1, 2002)(NY03-44)

NY02-45 (Mar. 1, 2002)(NY03-45)

NY02-46 (Mar. 1, 2002)(NY03-46)

NY02-47 (Mar. 1, 2002)(NY03-47)

NY02-48 (Mar. 1, 2002)(NY03-48)

NY02-49 (Mar. 1, 2002)(NY03-49)

NY02-50 (Mar. 1, 2002)(NY03-50)

NY02-51 (Mar. 1, 2002)(NY03-51)

NY02-52 (Mar. 1, 2002)(NY03-52)

NY02-53 (Mar. 1, 2002)(NY03-53)

NY02-54 (Mar. 1, 2002)(NY03-54)

NY02-55 (Mar. 1, 2002)(NY03-55)

NY02-56 (Mar. 1, 2002)(NY03-56)

NY02-57 (Mar. 1, 2002)(NY03-57)

NY02-58 (Mar. 1, 2002)(NY03-58)

NY02-59 (Mar. 1, 2002)(NY03-59)

NY02-60 (Mar. 1, 2002)(NY03-60)

NY02-61 (Mar. 1, 2002)(NY03-61)

NY02-62 (Mar. 1, 2002)(NY03-62)

NY02-63 (Mar. 1, 2002)(NY03-63)

NY02-64 (Mar. 1, 2002)(NY03-64)

NY02-65 (Mar. 1, 2002)(NY03-65)

NY02-66 (Mar. 1, 2002)(NY03-66)

NY02-67 (Mar. 1, 2002)(NY03-67)

NY02-68 (Mar. 1, 2002)(NY03-68)

NY02-69 (Mar. 1, 2002)(NY03-69)

NY02-70 (Mar. 1, 2002)(NY03-70)

NY02-71 (Mar. 1, 2002)(NY03-71)

NY02-72 (Mar. 1, 2002)(NY03-72)

NY02-73 (Mar. 1, 2002)(NY03-73)

NY02-74 (Mar. 1, 2002)(NY03-74)

NY02-75 (Mar. 1, 2002)(NY03-75)

NY02-76 (Mar. 1, 2002)(NY03-76)

NY02-77 (Mar. 1, 2002)(NY03-77)

Guam

GU02-01 (Mar. 1, 2002)(GU03-01)

Puerto Rico

PR02-01 (Mar. 1, 2002)(PR03-01)

PR02-02 (Mar. 1, 2002)(PR03-02)

PR02-03 (Mar. 1, 2002)(PR03-03)

Rhode Island

RI02-01 (Mar. 1, 2002)(RI03-01)

RI02-02 (Mar. 1, 2002)(RI03-02)

RI02-03 (Mar. 1, 2002)(RI03-03)

RI02-04 (Mar. 1, 2002)(RI03-04)

RI02-05 (Mar. 1, 2002)(RI03-05)

Virgin Islands

VI02-01 (Mar. 1, 2002)(VI03-01)

VI02-02 (Mar. 1, 2002)(VI03-02)

Vermont

VT02-01 (Mar. 1, 2002)(VT03-01)

VT02-02 (Mar. 1, 2002)(VT03-02)

VT02-03 (Mar. 1, 2002)(VT03-03)

VT02-04 (Mar. 1, 2002)(VT03-04)

VT02-05 (Mar. 1, 2002)(VT03-05)

VT02-06 (Mar. 1, 2002)(VT03-06)

VT02-07 (Mar. 1, 2002)(VT03-07)

VT02-08 (Mar. 1, 2002)(VT03-08)

VT02-09 (Mar. 1, 2002)(VT03-09)

VT02-10 (Mar. 1, 2002)(VT03-10)

VT02-11 (Mar. 1, 2002)(VT03-11)

VT02-12 (Mar. 1, 2002)(VT03-12)

VT02-13 (Mar. 1, 2002)(VT03-13)

VT02-14 (Mar. 1, 2002)(VT03-14)

VT02-15 (Mar. 1, 2002)(VT03-15)

VT02-16 (Mar. 1, 2002)(VT03-16)

VT02-17 (Mar. 1, 2002)(VT03-17)

VT02-18 (Mar. 1, 2002)(VT03-18)

VT02-19 (Mar. 1, 2002)(VT03-19)

VT02-20 (Mar. 1, 2002)(VT03-20)

VT02-21 (Mar. 1, 2002)(VT03-21)

VT02-22 (Mar. 1, 2002)(VT03-22)

VT02-23 (Mar. 1, 2002)(VT03-23)

VT02-24 (Mar. 1, 2002)(VT03-24)

VT02-25 (Mar. 1, 2002)(VT03-25)

VT02-26 (Mar. 1, 2002)(VT03-26)

VT02-27 (Mar. 1, 2002)(VT03-27)

VT02-28 (Mar. 1, 2002)(VT03-28)

VT02-29 (Mar. 1, 2002)(VT03-29)

VT02-30 (Mar. 1, 2002)(VT03-30)

VT02-31 (Mar. 1, 2002)(VT03-31)

VT02-32 (Mar. 1, 2002)(VT03-32)

VT02-33 (Mar. 1, 2002)(VT03-33)

VT02-34 (Mar. 1, 2002)(VT03-34)

VT02-35 (Mar. 1, 2002)(VT03-35)

VT02-36 (Mar. 1, 2002)(VT03-36)

VT02-37 (Mar. 1, 2002)(VT03-37)

VT02-38 (Mar. 1, 2002)(VT03-38)

VT02-39 (Mar. 1, 2002)(VT03-39)

VT02-40 (Mar. 1, 2002)(VT03-40)

VT02-41 (Mar. 1, 2002)(VT03-41)

VT02-42 (Mar. 1, 2002)(VT03-42)

VT02-43 (Mar. 1, 2002)(VT03-43)

Volume II

District of Col

DC02-01 (Mar. 1, 2002)(DC03-01)

DC02-02 (Mar. 1, 2002)(DC03-02)

DC02-03 (Mar. 1, 2002)(DC03-03)

Delaware

DE02-01 (Mar. 1, 2002)(DE03-01)

DE02-02 (Mar. 1, 2002)(DE03-02)

DE02-03 (Mar. 1, 2002)(DE03-03)

DE02-04 (Mar. 1, 2002)(DE03-04)

DE02-05 (Mar. 1, 2002)(DE03-05)

DE02-06 (Mar. 1, 2002)(DE03-06)

DE02-07 (Mar. 1, 2002)(DE03-07)

DE02-08 (Mar. 1, 2002)(DE03-08)

DE02-09 (Mar. 1, 2002)(DE03-09)

DE02-10 (Mar. 1, 2002)(DE03-10)

DE02-11 (Mar. 1, 2002)(DE03-11)

Maryland

MD02-01 (Mar. 1, 2002)(MD03-01)

MD02-02 (Mar. 1, 2002)(MD03-02)

MD02-03 (Mar. 1, 2002)(MD03-03)

MD02-04 (Mar. 1, 2002)(MD03-04)

MD02-05 (Mar. 1, 2002)(MD03-05)

MD02-06 (Mar. 1, 2002)(MD03-06)

MD02-07 (Mar. 1, 2002)(MD03-07)

MD02-08 (Mar. 1, 2002)(MD03-08)

MD02-09 (Mar. 1, 2002)(MD03-09)

MD02-10 (Mar. 1, 2002)(MD03-10)

MD02-11 (Mar. 1, 2002)(MD03-11)

MD02-12 (Mar. 1, 2002)(MD03-12)

MD02-13 (Mar. 1, 2002)(MD03-13)

MD02-14 (Mar. 1, 2002)(MD03-14)

MD02-15 (Mar. 1, 2002)(MD03-15)

MD02-16 (Mar. 1, 2002)(MD03-16)

MD02-17 (Mar. 1, 2002)(MD03-17)

MD02-18 (Mar. 1, 2002)(MD03-18)

MD02-19 (Mar. 1, 2002)(MD03-19)

MD02-20 (Mar. 1, 2002)(MD03-20)

MD02-21 (Mar. 1, 2002)(MD03-21)

MD02-22 (Mar. 1, 2002)(MD03-22)

MD02-23 (Mar. 1, 2002)(MD03-23)

MD02-24 (Mar. 1, 2002)(MD03-24)

MD02-25 (Mar. 1, 2002)(MD03-25)

MD02-26 (Mar. 1, 2002)(MD03-26)

MD02-27 (Mar. 1, 2002)(MD03-27)

MD02-28 (Mar. 1, 2002)(MD03-28)

MD02-29 (Mar. 1, 2002)(MD03-29)

MD02-30 (Mar. 1, 2002)(MD03-30)

MD02-31 (Mar. 1, 2002)(MD03-31)

MD02-32 (Mar. 1, 2002)(MD03-32)

MD02-33 (Mar. 1, 2002)(MD03-33)

MD02-34 (Mar. 1, 2002)(MD03-34)

MD02-35 (Mar. 1, 2002)(MD03-35)

MD02-36 (Mar. 1, 2002)(MD03-36)

MD02-37 (Mar. 1, 2002)(MD03-37)

MD02-38 (Mar. 1, 2002)(MD03-38)

MD02-39 (Mar. 1, 2002)(MD03-39)

MD02-40 (Mar. 1, 2002)(MD03-40)

MD02-41 (Mar. 1, 2002)(MD03-41)

MD02-42 (Mar. 1, 2002)(MD03-42)

MD02-43 (Mar. 1, 2002)(MD03-43)

MD02-44 (Mar. 1, 2002)(MD03-44)

MD02-45 (Mar. 1, 2002)(MD03-45)

MD02-46 (Mar. 1, 2002)(MD03-46)

MD02-47 (Mar. 1, 2002)(MD03-47)

MD02-48 (Mar. 1, 2002)(MD03-48)

MD02-49 (Mar. 1, 2002)(MD03-49)

MD02-50 (Mar. 1, 2002)(MD03-50)

MD02-51 (Mar. 1, 2002)(MD03-51)

MD02-52 (Mar. 1, 2002)(MD03-52)

MD02-53 (Mar. 1, 2002)(MD03-53)

MD02-54 (Mar. 1, 2002)(MD03-54)

MD02-55 (Mar. 1, 2002)(MD03-55)

MD02-56 (Mar. 1, 2002)(MD03-56)

MD02-57 (Mar. 1, 2002)(MD03-57)

MD02-58 (Mar. 1, 2002)(MD03-58)

Pennsylvania

PA02-01 (Mar. 1, 2002)(PA03-01)

PA02-02 (Mar. 1, 2002)(PA03-02)

PA02-03 (Mar. 1, 2002)(PA03-03)

PA02-04 (Mar. 1, 2002)(PA03-04)

PA02-05 (Mar. 1, 2002)(PA03-05)

PA02-06 (Mar. 1, 2002)(PA03-06)

PA02-07 (Mar. 1, 2002)(PA03-07)

PA02-08 (Mar. 1, 2002)(PA03-08)

PA02-09 (Mar. 1, 2002)(PA03-09)

PA02-10 (Mar. 1, 2002)(PA03-10)

PA02-11 (Mar. 1, 2002)(PA03-11)

PA02-12 (Mar. 1, 2002)(PA03-12)

PA02-13 (Mar. 1, 2002)(PA03-13)

PA02-14 (Mar. 1, 2002)(PA03-14)

PA02-15 (Mar. 1, 2002)(PA03-15)

PA02-16 (Mar. 1, 2002)(PA03-16)

PA02-17 (Mar. 1, 2002)(PA03-17)

PA02-18 (Mar. 1, 2002)(PA03-18)

PA02-19 (Mar. 1, 2002)(PA03-19)

PA02-20 (Mar. 1, 2002)(PA03-20)

PA02-21 (Mar. 1, 2002)(PA03-21)

PA02-22 (Mar. 1, 2002)(PA03-22)

PA02-23 (Mar. 1, 2002)(PA03-23)

PA02-24 (Mar. 1, 2002)(PA03-24)

PA02-25 (Mar. 1, 2002)(PA03-25)

PA02-26 (Mar. 1, 2002)(PA03-26)

PA02-27 (Mar. 1, 2002)(PA03-27)

PA02-28 (Mar. 1, 2002)(PA03-28)

PA02-29 (Mar. 1, 2002)(PA03-29)

PA02-30 (Mar. 1, 2002)(PA03-30)

PA02-31 (Mar. 1, 2002)(PA03-31)

PA02-32 (Mar. 1, 2002)(PA03-32)

PA02-33 (Mar. 1, 2002)(PA03-33)

PA02-34 (Mar. 1, 2002)(PA03-34)

PA02-35 (Mar. 1, 2002)(PA03-35)

PA02-36 (Mar. 1, 2002)(PA03-36)

PA02-37 (Mar. 1, 2002)(PA03-37)

PA02-38 (Mar. 1, 2002)(PA03-38)

PA02-39 (Mar. 1, 2002)(PA03-39)

PA02-40 (Mar. 1, 2002)(PA03-40)

PA02-41 (Mar. 1, 2002)(PA03-41)

PA02-42 (Mar. 1, 2002)(PA03-42)

PA02-43 (Mar. 1, 2002)(PA03-43)

PA02-44 (Mar. 1, 2002)(PA03-44)

PA02-45 (Mar. 1, 2002)(PA03-45)

PA02-46 (Mar. 1, 2002)(PA03-46)

PA02-47 (Mar. 1, 2002)(PA03-47)

PA02-48 (Mar. 1, 2002)(PA03-48)

PA02-49 (Mar. 1, 2002)(PA03-49)

PA02-50 (Mar. 1, 2002)(PA03-50)

PA02-51 (Mar. 1, 2002)(PA03-51)

PA02-52 (Mar. 1, 2002)(PA03-52)

PA02-53 (Mar. 1, 2002)(PA03-53)

PA02-54 (Mar. 1, 2002)(PA03-54)

PA02-55 (Mar. 1, 2002)(PA03-55)

PA02-56 (Mar. 1, 2002)(PA03-56)

PA02-57 (Mar. 1, 2002)(PA03-57)

PA02-58 (Mar. 1, 2002)(PA03-58)

PA02-59 (Mar. 1, 2002)(PA03-59)

PA02-60 (Mar. 1, 2002)(PA03-60)

PA02-61 (Mar. 1, 2002)(PA03-61)

PA02-62 (Mar. 1, 2002)(PA03-62)

PA02-63 (Mar. 1, 2002)(PA03-63)

PA02-64 (Mar. 1, 2002)(PA03-64)

PA02-65 (Mar. 1, 2002)(PA03-65)

Virginia

VA02-01 (Mar. 1, 2002)(VA03-01)

VA02-02 (Mar. 1, 2002)(VA03-02)

VA02-03 (Mar. 1, 2002)(VA03-03)

VA02-04 (Mar. 1, 2002)(VA03-04)

VA02-05 (Mar. 1, 2002)(VA03-05)

VA02-06 (Mar. 1, 2002)(VA03-06)

VA02-07 (Mar. 1, 2002)(VA03-07)

VA02-08 (Mar. 1, 2002)(VA03-08)

VA02-09 (Mar. 1, 2002)(VA03-09)

VA02-10 (Mar. 1, 2002)(VA03-10)

VA02-11 (Mar. 1, 2002)(VA03-11)

VA02-12 (Mar. 1, 2002)(VA03-12)

VA02-13 (Mar. 1, 2002)(VA03-13)

VA02-14 (Mar. 1, 2002)(VA03-14)

VA02-15 (Mar. 1, 2002)(VA03-15)

VA02-16 (Mar. 1, 2002)(VA03-16)

VA02-17 (Mar. 1, 2002)(VA03-17)

VA02-18 (Mar. 1, 2002)(VA03-18)

VA02-19 (Mar. 1, 2002)(VA03-19)

VA02-20 (Mar. 1, 2002)(VA03-20)

VA02-21 (Mar. 1, 2002)(VA03-21)

VA02-22 (Mar. 1, 2002)(VA03-22)

VA02-23 (Mar. 1, 2002)(VA03-23)

VA02-24 (Mar. 1, 2002)(VA03-24)

VA02-25 (Mar. 1, 2002)(VA03-25)

VA02-26 (Mar. 1, 2002)(VA03-26)

VA02-27 (Mar. 1, 2002)(VA03-27)

VA02-28 (Mar. 1, 2002)(VA03-28)

VA02-29 (Mar. 1, 2002)(VA03-29)

VA02-30 (Mar. 1, 2002)(VA03-30)

VA02-31 (Mar. 1, 2002)(VA03-31)

VA02-32 (Mar. 1, 2002)(VA03-32)

VA02-33 (Mar. 1, 2002)(VA03-33)

VA02-34 (Mar. 1, 2002)(VA03-34)

VA02-35 (Mar. 1, 2002)(VA03-35)

VA02-36 (Mar. 1, 2002)(VA03-36)

VA02-37 (Mar. 1, 2002)(VA03-37)

VA02-38 (Mar. 1, 2002)(VA03-38)

VA02-39 (Mar. 1, 2002)(VA03-39)

VA02-40 (Mar. 1, 2002)(VA03-40)

VA02-41 (Mar. 1, 2002)(VA03-41)

VA02-42 (Mar. 1, 2002)(VA03-42)

VA02-43 (Mar. 1, 2002)(VA03-43)

VA02-44 (Mar. 1, 2002)(VA03-44)

VA02-45 (Mar. 1, 2002)(VA03-45)

VA02-46 (Mar. 1, 2002)(VA03-46)

VA02-47 (Mar. 1, 2002)(VA03-47)

VA02-48 (Mar. 1, 2002)(VA03-48)

VA02-49 (Mar. 1, 2002)(VA03-49)

VA02-50 (Mar. 1, 2002)(VA03-50)

VA02-51 (Mar. 1, 2002)(VA03-51)

VA02-52 (Mar. 1, 2002)(VA03-52)

VA02-53 (Mar. 1, 2002)(VA03-53)

VA02-54 (Mar. 1, 2002)(VA03-54)

VA02-55 (Mar. 1, 2002)(VA03-55)

VA02-56 (Mar. 1, 2002)(VA03-56)

VA02-57 (Mar. 1, 2002)(VA03-57)

VA02-58 (Mar. 1, 2002)(VA03-58)

VA02-59 (Mar. 1, 2002)(VA03-59)

VA02-60 (Mar. 1, 2002)(VA03-60)

VA02-61 (Mar. 1, 2002)(VA03-61)

VA02-62 (Mar. 1, 2002)(VA03-62)

VA02-63 (Mar. 1, 2002)(VA03-63)

VA02-64 (Mar. 1, 2002)(VA03-64)

VA02-65 (Mar. 1, 2002)(VA03-65)

VA02-66 (Mar. 1, 2002)(VA03-66)

VA02-67 (Mar. 1, 2002)(VA03-67)

VA02-68 (Mar. 1, 2002)(VA03-68)

VA02-69 (Mar. 1, 2002)(VA03-69)

VA02-70 (Mar. 1, 2002)(VA03-70)

VA02-71 (Mar. 1, 2002)(VA03-71)

VA02-72 (Mar. 1, 2002)(VA03-72)

VA02-73 (Mar. 1, 2002)(VA03-73)

VA02-74 (Mar. 1, 2002)(VA03-74)

VA02-75 (Mar. 1, 2002)(VA03-75)

VA02-76 (Mar. 1, 2002)(VA03-76)

VA02-77 (Mar. 1, 2002)(VA03-77)

VA02-78 (Mar. 1, 2002)(VA03-78)

VA02-79 (Mar. 1, 2002)(VA03-79)

VA02-80 (Mar. 1, 2002)(VA03-80)

VA02-81 (Mar. 1, 2002)(VA03-81)

VA02-82 (Mar. 1, 2002)(VA03-82)

VA02-83 (Mar. 1, 2002)(VA03-83)

VA02-84 (Mar. 1, 2002)(VA03-84)

VA02-85 (Mar. 1, 2002)(VA03-85)

VA02-86 (Mar. 1, 2002)(VA03-86)

VA02-87 (Mar. 1, 2002)(VA03-87)

VA02-88 (Mar. 1, 2002)(VA03-88)

VA02-89 (Mar. 1, 2002)(VA03-89)

VA02-90 (Mar. 1, 2002)(VA03-90)

VA02-91 (Mar. 1, 2002)(VA03-91)

VA02-92 (Mar. 1, 2002)(VA03-92)

VA02-93 (Mar. 1, 2002)(VA03-93)

VA02-94 (Mar. 1, 2002)(VA03-94)

VA02-95 (Mar. 1, 2002)(VA03-95)

VA02-96 (Mar. 1, 2002)(VA03-96)

VA02-97 (Mar. 1, 2002)(VA03-97)

VA02-98 (Mar. 1, 2002)(VA03-98)

VA02-99 (Mar. 1, 2002)(VA03-99)

VA02-100 (Mar. 1, 2002)(VA03-100)

VA02-101 (Mar. 1, 2002)(VA03-101)

VA02-102 (Mar. 1, 2002)(VA03-102)

West Virginia

WV02-01 (Mar. 1, 2002)(WV03-01)

WV02-02 (Mar. 1, 2002)(WV03-02)

WV02-03 (Mar. 1, 2002)(WV03-03)

WV02-04 (Mar. 1, 2002)(WV03-04)

WV02-05 (Mar. 1, 2002)(WV03-05)

WV02-06 (Mar. 1, 2002)(WV03-06)

WV02-07 (Mar. 1, 2002)(WV03-07)

WV02-08 (Mar. 1, 2002)(WV03-08)

WV02-09 (Mar. 1, 2002)(WV03-09)

WV02-10 (Mar. 1, 2002)(WV03-10)

WV02-11 (Mar. 1, 2002)(WV03-11)

Volume III

Alabama

AL02-01 (Mar. 1, 2002)(AL03-01)

AL02-02 (Mar. 1, 2002)(AL03-02)

AL02-03 (Mar. 1, 2002)(AL03-03)

AL02-04 (Mar. 1, 2002)(AL03-04)

AL02-05 (Mar. 1, 2002)(AL03-05)

AL02-06 (Mar. 1, 2002)(AL03-06)

AL02-07 (Mar. 1, 2002)(AL03-07)

AL02-08 (Mar. 1, 2002)(AL03-08)

AL02-09 (Mar. 1, 2002)(AL03-09)

AL02-10 (Mar. 1, 2002)(AL03-10)

AL02-11 (Mar. 1, 2002)(AL03-11)

AL02-12 (Mar. 1, 2002)(AL03-12)

AL02-13 (Mar. 1, 2002)(AL03-13)

AL02-14 (Mar. 1, 2002)(AL03-14)

AL02-15 (Mar. 1, 2002)(AL03-15)

AL02-16 (Mar. 1, 2002)(AL03-16)

AL02-17 (Mar. 1, 2002)(AL03-17)

AL02-18 (Mar. 1, 2002)(AL03-18)

AL02-19 (Mar. 1, 2002)(AL03-19)

AL02-20 (Mar. 1, 2002)(AL03-20)

AL02-21 (Mar. 1, 2002)(AL03-21)

AL02-22 (Mar. 1, 2002)(AL03-22)

AL02-23 (Mar. 1, 2002)(AL03-23)

AL02-24 (Mar. 1, 2002)(AL03-24)

AL02-25 (Mar. 1, 2002)(AL03-25)

AL02-26 (Mar. 1, 2002)(AL03-26)

AL02-27 (Mar. 1, 2002)(AL03-27)

AL02-28 (Mar. 1, 2002)(AL03-28)

AL02-29 (Mar. 1, 2002)(AL03-29)

AL02-30 (Mar. 1, 2002)(AL03-30)

AL02-31 (Mar. 1, 2002)(AL03-31)

AL02-32 (Mar. 1, 2002)(AL03-32)

AL02-33 (Mar. 1, 2002)(AL03-33)

AL02-34 (Mar. 1, 2002)(AL03-34)

AL02-35 (Mar. 1, 2002)(AL03-35)

AL02-36 (Mar. 1, 2002)(AL03-36)

AL02-37 (Mar. 1, 2002)(AL03-37)

AL02-38 (Mar. 1, 2002)(AL03-38)

AL02-39 (Mar. 1, 2002)(AL03-39)

AL02-40 (Mar. 1, 2002)(AL03-40)

AL02-41 (Mar. 1, 2002)(AL03-41)

AL02-42 (Mar. 1, 2002)(AL03-42)

AL02-43 (Mar. 1, 2002)(AL03-43)

AL02-44 (Mar. 1, 2002)(AL03-44)

AL02-45 (Mar. 1, 2002)(AL03-45)

AL02-46 (Mar. 1, 2002)(AL03-46)

AL02-47 (Mar. 1, 2002)(AL03-47)

AL02-48 (Mar. 1, 2002)(AL03-48)

AL02-49 (Mar. 1, 2002)(AL03-49)

AL02-50 (Mar. 1, 2002)(AL03-50)

AL02-51 (Mar. 1, 2002)(AL03-51)

AL02-52 (Mar. 1, 2002)(AL03-52)

AL02-53 (Mar. 1, 2002)(AL03-53)

AL02-54 (Mar. 1, 2002)(AL03-54)

AL02-55 (Mar. 1, 2002)(AL03-55)

Florida

FL02-01 (Mar. 1, 2002)(FL03-01)

FL02-02 (Mar. 1, 2002)(FL03-02)

FL02-03 (Mar. 1, 2002)(FL03-03)

FL02-04 (Mar. 1, 2002)(FL03-04)

FL02-05 (Mar. 1, 2002)(FL03-05)

FL02-06 (Mar. 1, 2002)(FL03-06)

FL02-07 (Mar. 1, 2002)(FL03-07)

FL02-08 (Mar. 1, 2002)(FL03-08)

FL02-09 (Mar. 1, 2002)(FL03-09)

FL02-10 (Mar. 1, 2002)(FL03-10)

FL02-11 (Mar. 1, 2002)(FL03-11)

FL02-12 (Mar. 1, 2002)(FL03-12)

FL02-13 (Mar. 1, 2002)(FL03-13)

FL02-14 (Mar. 1, 2002)(FL03-14)

FL02-15 (Mar. 1, 2002)(FL03-15)

FL02-16 (Mar. 1, 2002)(FL03-16)

FL02-17 (Mar. 1, 2002)(FL03-17)

FL02-18 (Mar. 1, 2002)(FL03-18)

FL02-19 (Mar. 1, 2002)(FL03-19)

FL02-20 (Mar. 1, 2002)(FL03-20)

FL02-21 (Mar. 1, 2002)(FL03-21)

FL02-22 (Mar. 1, 2002)(FL03-22)

FL02-23 (Mar. 1, 2002)(FL03-23)

FL02-24 (Mar. 1, 2002)(FL03-24)

FL02-25 (Mar. 1, 2002)(FL03-25)

FL02-26 (Mar. 1, 2002)(FL03-26)

FL02-27 (Mar. 1, 2002)(FL03-27)

FL02-28 (Mar. 1, 2002)(FL03-28)

FL02-29 (Mar. 1, 2002)(FL03-29)

FL02-30 (Mar. 1, 2002)(FL03-30)

FL02-31 (Mar. 1, 2002)(FL03-31)

FL02-32 (Mar. 1, 2002)(FL03-32)

FL02-33 (Mar. 1, 2002)(FL03-33)

FL02-34 (Mar. 1, 2002)(FL03-34)

FL02-35 (Mar. 1, 2002)(FL03-35)

FL02-36 (Mar. 1, 2002)(FL03-36)

FL02-37 (Mar. 1, 2002)(FL03-37)

FL02-38 (Mar. 1, 2002)(FL03-38)

FL02-39 (Mar. 1, 2002)(FL03-39)

FL02-40 (Mar. 1, 2002)(FL03-40)

FL02-41 (Mar. 1, 2002)(FL03-41)

FL02-42 (Mar. 1, 2002)(FL03-42)

FL02-43 (Mar. 1, 2002)(FL03-43)

FL02-44 (Mar. 1, 2002)(FL03-44)

FL02-45 (Mar. 1, 2002)(FL03-45)

FL02-46 (Mar. 1, 2002)(FL03-46)

FL02-47 (Mar. 1, 2002)(FL03-47)

FL02-48 (Mar. 1, 2002)(FL03-48)

FL02-49 (Mar. 1, 2002)(FL03-49)

FL02-50 (Mar. 1, 2002)(FL03-50)

FL02-51 (Mar. 1, 2002)(FL03-51)

FL02-52 (Mar. 1, 2002)(FL03-52)

FL02-53 (Mar. 1, 2002)(FL03-53)

FL02-54 (Mar. 1, 2002)(FL03-54)

FL02-55 (Mar. 1, 2002)(FL03-55)

FL02-56 (Mar. 1, 2002)(FL03-56)

FL02-57 (Mar. 1, 2002)(FL03-57)

FL02-58 (Mar. 1, 2002)(FL03-58)

FL02-59 (Mar. 1, 2002)(FL03-59)

FL02-60 (Mar. 1, 2002)(FL03-60)

FL02-61 (Mar. 1, 2002)(FL03-61)

FL02-62 (Mar. 1, 2002)(FL03-62)

FL02-63 (Mar. 1, 2002)(FL03-63)

FL02-64 (Mar. 1, 2002)(FL03-64)

FL02-65 (Mar. 1, 2002)(FL03-65)

FL02-66 (Mar. 1, 2002)(FL03-66)

FL02-67 (Mar. 1, 2002)(FL03-67)

FL02-68 (Mar. 1, 2002)(FL03-68)

FL02-69 (Mar. 1, 2002)(FL03-69)

FL02-70 (Mar. 1, 2002)(FL03-70)

FL02-71 (Mar. 1, 2002)(FL03-71)

FL02-72 (Mar. 1, 2002)(FL03-72)

FL02-73 (Mar. 1, 2002)(FL03-73)

FL02-74 (Mar. 1, 2002)(FL03-74)

FL02-75 (Mar. 1, 2002)(FL03-75)

FL02-76 (Mar. 1, 2002)(FL03-76)

FL02-77 (Mar. 1, 2002)(FL03-77)

FL02-78 (Mar. 1, 2002)(FL03-78)

FL02-79 (Mar. 1, 2002)(FL03-79)

FL02-80 (Mar. 1, 2002)(FL03-80)

FL02-81 (Mar. 1, 2002)(FL03-81)

FL02-82 (Mar. 1, 2002)(FL03-82)

FL02-83 (Mar. 1, 2002)(FL03-83)

FL02-84 (Mar. 1, 2002)(FL03-84)

FL02-85 (Mar. 1, 2002)(FL03-85)

FL02-86 (Mar. 1, 2002)(FL03-86)

FL02-87 (Mar. 1, 2002)(FL03-87)

FL02-88 (Mar. 1, 2002)(FL03-88)

FL02-89 (Mar. 1, 2002)(FL03-89)

FL02-90 (Mar. 1, 2002)(FL03-90)

FL02-91 (Mar. 1, 2002)(FL03-91)

FL02-92 (Mar. 1, 2002)(FL03-92)

FL02-93 (Mar. 1, 2002)(FL03-93)

FL02-94 (Mar. 1, 2002)(FL03-94)

FL02-95 (Mar. 1, 2002)(FL03-95)

FL02-96 (Mar. 1, 2002)(FL03-96)

FL02-97 (Mar. 1, 2002)(FL03-97)

FL02-98 (Mar. 1, 2002)(FL03-98)

FL02-99 (Mar. 1, 2002)(FL03-99)

FL02-100 (Mar. 1, 2002)(FL03-100)

FL02-101 (Mar. 1, 2002)(FL03-101)

FL02-102 (Mar. 1, 2002)(FL03-102)

FL02-103 (Mar. 1, 2002)(FL03-103)

FL02-104 (Mar. 1, 2002)(FL03-104)

Georgia

GA02-01 (Mar. 1, 2002)(GA03-01)

GA02-02 (Mar. 1, 2002)(GA03-02)

GA02-03 (Mar. 1, 2002)(GA03-03)

GA02-04 (Mar. 1, 2002)(GA03-04)

GA02-05 (Mar. 1, 2002)(GA03-05)

GA02-06 (Mar. 1, 2002)(GA03-06)

GA02-07 (Mar. 1, 2002)(GA03-07)

GA02-08 (Mar. 1, 2002)(GA03-08)

GA02-09 (Mar. 1, 2002)(GA03-09)

GA02-10 (Mar. 1, 2002)(GA03-10)

GA02-11 (Mar. 1, 2002)(GA03-11)

GA02-12 (Mar. 1, 2002)(GA03-12)

GA02-13 (Mar. 1, 2002)(GA03-13)

GA02-14 (Mar. 1, 2002)(GA03-14)

GA02-15 (Mar. 1, 2002)(GA03-15)

GA02-16 (Mar. 1, 2002)(GA03-16)

GA02-17 (Mar. 1, 2002)(GA03-17)

GA02-18 (Mar. 1, 2002)(GA03-18)

GA02-19 (Mar. 1, 2002)(GA03-19)

GA02-20 (Mar. 1, 2002)(GA03-20)

GA02-21 (Mar. 1, 2002)(GA03-21)

GA02-22 (Mar. 1, 2002)(GA03-22)

GA02-23 (Mar. 1, 2002)(GA03-23)

GA02-24 (Mar. 1, 2002)(GA03-24)

GA02-25 (Mar. 1, 2002)(GA03-25)

GA02-26 (Mar. 1, 2002)(GA03-26)

GA02-27 (Mar. 1, 2002)(GA03-27)

GA02-28 (Mar. 1, 2002)(GA03-28)

GA02-29 (Mar. 1, 2002)(GA03-29)

GA02-30 (Mar. 1, 2002)(GA03-30)

GA02-31 (Mar. 1, 2002)(GA03-31)

GA02-32 (Mar. 1, 2002)(GA03-32)

GA02-33 (Mar. 1, 2002)(GA03-33)

GA02-34 (Mar. 1, 2002)(GA03-34)

GA02-35 (Mar. 1, 2002)(GA03-35)

GA02-36 (Mar. 1, 2002)(GA03-36)

GA02-37 (Mar. 1, 2002)(GA03-37)

GA02-38 (Mar. 1, 2002)(GA03-38)

GA02-39 (Mar. 1, 2002)(GA03-39)

GA02-40 (Mar. 1, 2002)(GA03-40)

GA02-41 (Mar. 1, 2002)(GA03-41)

GA02-42 (Mar. 1, 2002)(GA03-42)

GA02-43 (Mar. 1, 2002)(GA03-43)

GA02-44 (Mar. 1, 2002)(GA03-44)

GA02-45 (Mar. 1, 2002)(GA03-45)

GA02-46 (Mar. 1, 2002)(GA03-46)

GA02-47 (Mar. 1, 2002)(GA03-47)

GA02-48 (Mar. 1, 2002)(GA03-48)

GA02-49 (Mar. 1, 2002)(GA03-49)

GA02-50 (Mar. 1, 2002)(GA03-50)

GA02-51 (Mar. 1, 2002)(GA03-51)

GA02-52 (Mar. 1, 2002)(GA03-52)

GA02-53 (Mar. 1, 2002)(GA03-53)

GA02-54 (Mar. 1, 2002)(GA03-54)

GA02-55 (Mar. 1, 2002)(GA03-55)

GA02-56 (Mar. 1, 2002)(GA03-56)

GA02-57 (Mar. 1, 2002)(GA03-57)

GA02-58 (Mar. 1, 2002)(GA03-58)

GA02-59 (Mar. 1, 2002)(GA03-59)

GA02-60 (Mar. 1, 2002)(GA03-60)

GA02-61 (Mar. 1, 2002)(GA03-61)

GA02-62 (Mar. 1, 2002)(GA03-62)

GA02-63 (Mar. 1, 2002)(GA03-63)

GA02-64 (Mar. 1, 2002)(GA03-64)

GA02-65 (Mar. 1, 2002)(GA03-65)

GA02-66 (Mar. 1, 2002)(GA03-66)

GA02-67 (Mar. 1, 2002)(GA03-67)

GA02-68 (Mar. 1, 2002)(GA03-68)

GA02-69 (Mar. 1, 2002)(GA03-69)

GA02-70 (Mar. 1, 2002)(GA03-70)

GA02-71 (Mar. 1, 2002)(GA03-71)

GA02-72 (Mar. 1, 2002)(GA03-72)

GA02-73 (Mar. 1, 2002)(GA03-73)

GA02-74 (Mar. 1, 2002)(GA03-74)

GA02-75 (Mar. 1, 2002)(GA03-75)

GA02-76 (Mar. 1, 2002)(GA03-76)

GA02-77 (Mar. 1, 2002)(GA03-77)

GA02-78 (Mar. 1, 2002)(GA03-78)

GA02-79 (Mar. 1, 2002)(GA03-79)

GA02-80 (Mar. 1, 2002)(GA03-80)

GA02-81 (Mar. 1, 2002)(GA03-81)

GA02-82 (Mar. 1, 2002)(GA03-82)

GA02-83 (Mar. 1, 2002)(GA03-83)

GA02-84 (Mar. 1, 2002)(GA03-84)

GA02-85 (Mar. 1, 2002)(GA03-85)

GA02-86 (Mar. 1, 2002)(GA03-86)

GA02-87 (Mar. 1, 2002)(GA03-87)

GA02-88 (Mar. 1, 2002)(GA03-88)

Kentucky

KY02-01 (Mar. 1, 2002)(KY03-01)

KY02-02 (Mar. 1, 2002)(KY03-02)

KY02-03 (Mar. 1, 2002)(KY03-03)

KY02-04 (Mar. 1, 2002)(KY03-04)

KY02-05 (Mar. 1, 2002)(KY03-05)

KY02-06 (Mar. 1, 2002)(KY03-06)

KY02-07 (Mar. 1, 2002)(KY03-07)

KY02-08 (Mar. 1, 2002)(KY03-08)

KY02-09 (Mar. 1, 2002)(KY03-09)

KY02-10 (Mar. 1, 2002)(KY03-10)

KY02-11 (Mar. 1, 2002)(KY03-11)

KY02-12 (Mar. 1, 2002)(KY03-12)

KY02-13 (Mar. 1, 2002)(KY03-13)

KY02-14 (Mar. 1, 2002)(KY03-14)

KY02-15 (Mar. 1, 2002)(KY03-15)

KY02-16 (Mar. 1, 2002)(KY03-16)

KY02-17 (Mar. 1, 2002)(KY03-17)

KY02-18 (Mar. 1, 2002)(KY03-18)

KY02-19 (Mar. 1, 2002)(KY03-19)

KY02-20 (Mar. 1, 2002)(KY03-20)

KY02-21 (Mar. 1, 2002)(KY03-21)

KY02-22 (Mar. 1, 2002)(KY03-22)

KY02-23 (Mar. 1, 2002)(KY03-23)

KY02-24 (Mar. 1, 2002)(KY03-24)

KY02-25 (Mar. 1, 2002)(KY03-25)

KY02-26 (Mar. 1, 2002)(KY03-26)

KY02-27 (Mar. 1, 2002)(KY03-27)

KY02-28 (Mar. 1, 2002)(KY03-28)

KY02-29 (Mar. 1, 2002)(KY03-29)

KY02-30 (Mar. 1, 2002)(KY03-30)

KY02-31 (Mar. 1, 2002)(KY03-31)

KY02-32 (Mar. 1, 2002)(KY03-32)

KY02-33 (Mar. 1, 2002)(KY03-33)

KY02-34 (Mar. 1, 2002)(KY03-34)

KY02-35 (Mar. 1, 2002)(KY03-35)

KY02-36 (Mar. 1, 2002)(KY03-36)

KY02-37 (Mar. 1, 2002)(KY03-37)

KY02-38 (Mar. 1, 2002)(KY03-38)

KY02-39 (Mar. 1, 2002)(KY03-39)

KY02-40 (Mar. 1, 2002)(KY03-40)

KY02-41 (Mar. 1, 2002)(KY03-41)

KY02-42 (Mar. 1, 2002)(KY03-42)

KY02-43 (Mar. 1, 2002)(KY03-43)

KY02-44 (Mar. 1, 2002)(KY03-44)

KY02-45 (Mar. 1, 2002)(KY03-45)

KY02-46 (Mar. 1, 2002)(KY03-46)

KY02-47 (Mar. 1, 2002)(KY03-47)

KY02-48 (Mar. 1, 2002)(KY03-48)

KY02-49 (Mar. 1, 2002)(KY03-49)

KY02-50 (Mar. 1, 2002)(KY03-50)

KY02-51 (Mar. 1, 2002)(KY03-51)

KY02-52 (Mar. 1, 2002)(KY03-52)

KY02-53 (Mar. 1, 2002)(KY03-53)

Mississippi

MS02-01 (Mar. 1, 2002)(MS03-01)

MS02-02 (Mar. 1, 2002)(MS03-02)

MS02-03 (Mar. 1, 2002)(MS03-03)

MS02-04 (Mar. 1, 2002)(MS03-04)

MS02-05 (Mar. 1, 2002)(MS03-05)

MS02-06 (Mar. 1, 2002)(MS03-06)

MS02-07 (Mar. 1, 2002)(MS03-07)

MS02-08 (Mar. 1, 2002)(MS03-08)

MS02-09 (Mar. 1, 2002)(MS03-09)

MS02-10 (Mar. 1, 2002)(MS03-10)

MS02-11 (Mar. 1, 2002)(MS03-11)

MS02-12 (Mar. 1, 2002)(MS03-12)

MS02-13 (Mar. 1, 2002)(MS03-13)

MS02-14 (Mar. 1, 2002)(MS03-14)

MS02-15 (Mar. 1, 2002)(MS03-15)

MS02-16 (Mar. 1, 2002)(MS03-16)

MS02-17 (Mar. 1, 2002)(MS03-17)

MS02-18 (Mar. 1, 2002)(MS03-18)

MS02-19 (Mar. 1, 2002)(MS03-19)

MS02-20 (Mar. 1, 2002)(MS03-20)

MS02-21 (Mar. 1, 2002)(MS03-21)

MS02-22 (Mar. 1, 2002)(MS03-22)

MS02-23 (Mar. 1, 2002)(MS03-23)

MS02-24 (Mar. 1, 2002)(MS03-24)

MS02-25 (Mar. 1, 2002)(MS03-25)

MS02-26 (Mar. 1, 2002)(MS03-26)

MS02-27 (Mar. 1, 2002)(MS03-27)

MS02-28 (Mar. 1, 2002)(MS03-28)

MS02-29 (Mar. 1, 2002)(MS03-29)

MS02-30 (Mar. 1, 2002)(MS03-30)

MS02-31 (Mar. 1, 2002)(MS03-31)

MS02-32 (Mar. 1, 2002)(MS03-32)

MS02-33 (Mar. 1, 2002)(MS03-33)

MS02-34 (Mar. 1, 2002)(MS03-34)

MS02-35 (Mar. 1, 2002)(MS03-35)

MS02-36 (Mar. 1, 2002)(MS03-36)

MS02-37 (Mar. 1, 2002)(MS03-37)

MS02-38 (Mar. 1, 2002)(MS03-38)

MS02-39 (Mar. 1, 2002)(MS03-39)

MS02-40 (Mar. 1, 2002)(MS03-40)

MS02-41 (Mar. 1, 2002)(MS03-41)

MS02-42 (Mar. 1, 2002)(MS03-42)

MS02-43 (Mar. 1, 2002)(MS03-43)

MS02-44 (Mar. 1, 2002)(MS03-44)

MS02-45 (Mar. 1, 2002)(MS03-45)

MS02-46 (Mar. 1, 2002)(MS03-46)

MS02-47 (Mar. 1, 2002)(MS03-47)

MS02-48 (Mar. 1, 2002)(MS03-48)

MS02-49 (Mar. 1, 2002)(MS03-49)

MS02-50 (Mar. 1, 2002)(MS03-50)

MS02-51 (Mar. 1, 2002)(MS03-51)

MS02-52 (Mar. 1, 2002)(MS03-52)

MS02-53 (Mar. 1, 2002)(MS03-53)

MS02-54 (Mar. 1, 2002)(MS03-54)

MS02-55 (Mar. 1, 2002)(MS03-55)

MS02-56 (Mar. 1, 2002)(MS03-56)

North Carolina

NC02-01 (Mar. 1, 2002)(NC03-01)

NC02-02 (Mar. 1, 2002)(NC03-02)

NC02-03 (Mar. 1, 2002)(NC03-03)

NC02-04 (Mar. 1, 2002)(NC03-04)

NC02-05 (Mar. 1, 2002)(NC03-05)

NC02-06 (Mar. 1, 2002)(NC03-06)

NC02-07 (Mar. 1, 2002)(NC03-07)

NC02-08 (Mar. 1, 2002)(NC03-08)

NC02-09 (Mar. 1, 2002)(NC03-09)

NC02-10 (Mar. 1, 2002)(NC03-10)

NC02-11 (Mar. 1, 2002)(NC03-11)

NC02-12 (Mar. 1, 2002)(NC03-12)

NC02-13 (Mar. 1, 2002)(NC03-13)

NC02-14 (Mar. 1, 2002)(NC03-14)

NC02-15 (Mar. 1, 2002)(NC03-15)

NC02-16 (Mar. 1, 2002)(NC03-16)

NC02-17 (Mar. 1, 2002)(NC03-17)

NC02-18 (Mar. 1, 2002)(NC03-18)

NC02-19 (Mar. 1, 2002)(NC03-19)

NC02-20 (Mar. 1, 2002)(NC03-20)

NC02-21 (Mar. 1, 2002)(NC03-21)

NC02-22 (Mar. 1, 2002)(NC03-22)

NC02-23 (Mar. 1, 2002)(NC03-23)

NC02-24 (Mar. 1, 2002)(NC03-24)

NC02-25 (Mar. 1, 2002)(NC03-25)

NC02-26 (Mar. 1, 2002)(NC03-26)

NC02-27 (Mar. 1, 2002)(NC03-27)

NC02-28 (Mar. 1, 2002)(NC03-28)

NC02-29 (Mar. 1, 2002)(NC03-29)

NC02-30 (Mar. 1, 2002)(NC03-30)

NC02-31 (Mar. 1, 2002)(NC03-31)

NC02-32 (Mar. 1, 2002)(NC03-32)

NC02-33 (Mar. 1, 2002)(NC03-33)

NC02-34 (Mar. 1, 2002)(NC03-34)

NC02-35 (Mar. 1, 2002)(NC03-35)

NC02-36 (Mar. 1, 2002)(NC03-36)

NC02-37 (Mar. 1, 2002)(NC03-37)

NC02-38 (Mar. 1, 2002)(NC03-38)

NC02-39 (Mar. 1, 2002)(NC03-39)

NC02-40 (Mar. 1, 2002)(NC03-40)

NC02-41 (Mar. 1, 2002)(NC03-41)

NC02-42 (Mar. 1, 2002)(NC03-42)

NC02-43 (Mar. 1, 2002)(NC03-43)

NC02-44 (Mar. 1, 2002)(NC03-44)

NC02-45 (Mar. 1, 2002)(NC03-45)

NC02-46 (Mar. 1, 2002)(NC03-46)

NC02-47 (Mar. 1, 2002)(NC03-47)

NC02-48 (Mar. 1, 2002)(NC03-48)

NC02-49 (Mar. 1, 2002)(NC03-49)

NC02-50 (Mar. 1, 2002)(NC03-50)

NC02-51 (Mar. 1, 2002)(NC03-51)

NC02-52 (Mar. 1, 2002)(NC03-52)

NC02-53 (Mar. 1, 2002)(NC03-53)

NC02-54 (Mar. 1, 2002)(NC03-54)

NC02-55 (Mar. 1, 2002)(NC03-55)

NC02-56 (Mar. 1, 2002)(NC03-56)

South Carolina

SC02-01 (Mar. 1, 2002)(SC03-01)

SC02-02 (Mar. 1, 2002)(SC03-02)

SC02-03 (Mar. 1, 2002)(SC03-03)

SC02-04 (Mar. 1, 2002)(SC03-04)

SC02-05 (Mar. 1, 2002)(SC03-05)

SC02-06 (Mar. 1, 2002)(SC03-06)

SC02-07 (Mar. 1, 2002)(SC03-07)

SC02-08 (Mar. 1, 2002)(SC03-08)

SC02-09 (Mar. 1, 2002)(SC03-09)

SC02-10 (Mar. 1, 2002)(SC03-10)

SC02-11 (Mar. 1, 2002)(SC03-11)

SC02-12 (Mar. 1, 2002)(SC03-12)

SC02-13 (Mar. 1, 2002)(SC03-13)

SC02-14 (Mar. 1, 2002)(SC03-14)

SC02-15 (Mar. 1, 2002)(SC03-15)

SC02-16 (Mar. 1, 2002)(SC03-16)

SC02-17 (Mar. 1, 2002)(SC03-17)

SC02-18 (Mar. 1, 2002)(SC03-18)

SC02-19 (Mar. 1, 2002)(SC03-19)

SC02-20 (Mar. 1, 2002)(SC03-20)

SC02-21 (Mar. 1, 2002)(SC03-21)

SC02-22 (Mar. 1, 2002)(SC03-22)

SC02-23 (Mar. 1, 2002)(SC03-23)

SC02-24 (Mar. 1, 2002)(SC03-24)

SC02-25 (Mar. 1, 2002)(SC03-25)

SC02-26 (Mar. 1, 2002)(SC03-26)

SC02-27 (Mar. 1, 2002)(SC03-27)

SC02-28 (Mar. 1, 2002)(SC03-28)

SC02-29 (Mar. 1, 2002)(SC03-29)

SC02-30 (Mar. 1, 2002)(SC03-30)

SC02-31 (Mar. 1, 2002)(SC03-31)

SC02-32 (Mar. 1, 2002)(SC03-32)

SC02-33 (Mar. 1, 2002)(SC03-33)

SC02-34 (Mar. 1, 2002)(SC03-34)

SC02-35 (Mar. 1, 2002)(SC03-35)

SC02-36 (Mar. 1, 2002)(SC03-36)

SC02-37 (Mar. 1, 2002)(SC03-37)

SC02-38 (Mar. 1, 2002)(SC03-38)

Tennessee

TN02-01 (Mar. 1, 2002)(TN03-01)

TN02-02 (Mar. 1, 2002)(TN03-02)

TN02-03 (Mar. 1, 2002)(TN03-03)

TN02-04 (Mar. 1, 2002)(TN03-04)

TN02-05 (Mar. 1, 2002)(TN03-05)

TN02-06 (Mar. 1, 2002)(TN03-06)

TN02-07 (Mar. 1, 2002)(TN03-07)

TN02-08 (Mar. 1, 2002)(TN03-08)

TN02-09 (Mar. 1, 2002)(TN03-09)

TN02-10 (Mar. 1, 2002)(TN03-10)

TN02-11 (Mar. 1, 2002)(TN03-11)

TN02-12 (Mar. 1, 2002)(TN03-12)

TN02-13 (Mar. 1, 2002)(TN03-13)

TN02-14 (Mar. 1, 2002)(TN03-14)

TN02-15 (Mar. 1, 2002)(TN03-15)

TN02-16 (Mar. 1, 2002)(TN03-16)

TN02-17 (Mar. 1, 2002)(TN03-17)

TN02-18 (Mar. 1, 2002)(TN03-18)

TN02-19 (Mar. 1, 2002)(TN03-19)

TN02-20 (Mar. 1, 2002)(TN03-20)

TN02-21 (Mar. 1, 2002)(TN03-21)

TN02-22 (Mar. 1, 2002)(TN03-22)

TN02-23 (Mar. 1, 2002)(TN03-23)

TN02-24 (Mar. 1, 2002)(TN03-24)

TN02-25 (Mar. 1, 2002)(TN03-25)

TN02-26 (Mar. 1, 2002)(TN03-26)

TN02-27 (Mar. 1, 2002)(TN03-27)

TN02-28 (Mar. 1, 2002)(TN03-28)

TN02-29 (Mar. 1, 2002)(TN03-29)

TN02-30 (Mar. 1, 2002)(TN03-30)

TN02-31 (Mar. 1, 2002)(TN03-31)

TN02-32 (Mar. 1, 2002)(TN03-32)

TN02-33 (Mar. 1, 2002)(TN03-33)

TN02-34 (Mar. 1, 2002)(TN03-34)

TN02-35 (Mar. 1, 2002)(TN03-35)

TN02-36 (Mar. 1, 2002)(TN03-36)

TN02-37 (Mar. 1, 2002)(TN03-37)

TN02-38 (Mar. 1, 2002)(TN03-38)

TN02-39 (Mar. 1, 2002)(TN03-39)

TN02-40 (Mar. 1, 2002)(TN03-40)

TN02-41 (Mar. 1, 2002)(TN03-41)

TN02-42 (Mar. 1, 2002)(TN03-42)

TN02-43 (Mar. 1, 2002)(TN03-43)

TN02-44 (Mar. 1, 2002)(TN03-44)

TN02-45 (Mar. 1, 2002)(TN03-45)

TN02-46 (Mar. 1, 2002)(TN03-46)

TN02-47 (Mar. 1, 2002)(TN03-47)

TN02-48 (Mar. 1, 2002)(TN03-48)

TN02-49 (Mar. 1, 2002)(TN03-49)

TN02-50 (Mar. 1, 2002)(TN03-50)

TN02-51 (Mar. 1, 2002)(TN03-51)

TN02-52 (Mar. 1, 2002)(TN03-52)

TN02-53 (Mar. 1, 2002)(TN03-53)

TN02-54 (Mar. 1, 2002)(TN03-54)

TN02-55 (Mar. 1, 2002)(TN03-55)

TN02-56 (Mar. 1, 2002)(TN03-56)

TN02-57 (Mar. 1, 2002)(TN03-57)

TN02-58 (Mar. 1, 2002)(TN03-58)

TN02-59 (Mar. 1, 2002)(TN03-59)

TN02-60 (Mar. 1, 2002)(TN03-60)

TN02-61 (Mar. 1, 2002)(TN03-61)

TN02-62 (Mar. 1, 2002)(TN03-62)

TN02-63 (Mar. 1, 2002)(TN03-63)

TN02-64 (Mar. 1, 2002)(TN03-64)

TN02-65 (Mar. 1, 2002)(TN03-65)

Volume IV

Illinois

IL02-01 (Mar. 1, 2002)(IL03-01)

IL02-02 (Mar. 1, 2002)(IL03-02)

IL02-03 (Mar. 1, 2002)(IL03-03)

IL02-04 (Mar. 1, 2002)(IL03-04)

IL02-05 (Mar. 1, 2002)(IL03-05)

IL02-06 (Mar. 1, 2002)(IL03-06)

IL02-07 (Mar. 1, 2002)(IL03-07)

IL02-08 (Mar. 1, 2002)(IL03-08)

IL02-09 (Mar. 1, 2002)(IL03-09)

IL02-10 (Mar. 1, 2002)(IL03-10)

IL02-11 (Mar. 1, 2002)(IL03-11)

IL02-12 (Mar. 1, 2002)(IL03-12)

IL02-13 (Mar. 1, 2002)(IL03-13)

IL02-14 (Mar. 1, 2002)(IL03-14)

IL02-15 (Mar. 1, 2002)(IL03-15)

IL02-16 (Mar. 1, 2002)(IL03-16)

IL02-17 (Mar. 1, 2002)(IL03-17)

IL02-18 (Mar. 1, 2002)(IL03-18)

IL02-19 (Mar. 1, 2002)(IL03-19)

IL02-20 (Mar. 1, 2002)(IL03-20)

IL02-21 (Mar. 1, 2002)(IL03-21)

IL02-22 (Mar. 1, 2002)(IL03-22)

IL02-23 (Mar. 1, 2002)(IL03-23)

IL02-24 (Mar. 1, 2002)(IL03-24)

IL02-25 (Mar. 1, 2002)(IL03-25)

IL02-26 (Mar. 1, 2002)(IL03-26)

IL02-27 (Mar. 1, 2002)(IL03-27)

IL02-28 (Mar. 1, 2002)(IL03-28)

IL02-29 (Mar. 1, 2002)(IL03-29)

IL02-30 (Mar. 1, 2002)(IL03-30)

IL02-31 (Mar. 1, 2002)(IL03-31)

IL02-32 (Mar. 1, 2002)(IL03-32)

IL02-33 (Mar. 1, 2002)(IL03-33)

IL02-34 (Mar. 1, 2002)(IL03-34)

IL02-35 (Mar. 1, 2002)(IL03-35)

IL02-36 (Mar. 1, 2002)(IL03-36)

IL02-37 (Mar. 1, 2002)(IL03-37)

IL02-38 (Mar. 1, 2002)(IL03-38)

IL02-39 (Mar. 1, 2002)(IL03-39)

IL02-40 (Mar. 1, 2002)(IL03-40)

IL02-41 (Mar. 1, 2002)(IL03-41)

IL02-42 (Mar. 1, 2002)(IL03-42)

IL02-43 (Mar. 1, 2002)(IL03-43)

IL02-44 (Mar. 1, 2002)(IL03-44)

IL02-45 (Mar. 1, 2002)(IL03-45)

IL02-46 (Mar. 1, 2002)(IL03-46)

IL02-47 (Mar. 1, 2002)(IL03-47)

IL02-48 (Mar. 1, 2002)(IL03-48)

IL02-49 (Mar. 1, 2002)(IL03-49)

IL02-50 (Mar. 1, 2002)(IL03-50)

IL02-51 (Mar. 1, 2002)(IL03-51)

IL02-52 (Mar. 1, 2002)(IL03-52)

IL02-53 (Mar. 1, 2002)(IL03-53)

IL02-54 (Mar. 1, 2002)(IL03-54)

IL02-55 (Mar. 1, 2002)(IL03-55)

IL02-56 (Mar. 1, 2002)(IL03-56)

IL02-57 (Mar. 1, 2002)(IL03-57)

IL02-58 (Mar. 1, 2002)(IL03-58)

IL02-59 (Mar. 1, 2002)(IL03-59)

IL02-60 (Mar. 1, 2002)(IL03-60)

IL02-61 (Mar. 1, 2002)(IL03-61)

IL02-62 (Mar. 1, 2002)(IL03-62)

IL02-63 (Mar. 1, 2002)(IL03-63)

IL02-64 (Mar. 1, 2002)(IL03-64)

IL02-65 (Mar. 1, 2002)(IL03-65)

IL02-66 (Mar. 1, 2002)(IL03-66)

IL02-67 (Mar. 1, 2002)(IL03-67)

IL02-68 (Mar. 1, 2002)(IL03-68)

IL02-69 (Mar. 1, 2002)(IL03-69)

IL02-70 (Mar. 1, 2002)(IL03-70)

Indiana

IN02-01 (Mar. 1, 2002)(IN03-01)

IN02-02 (Mar. 1, 2002)(IN03-02)

IN02-03 (Mar. 1, 2002)(IN03-03)

IN02-04 (Mar. 1, 2002)(IN03-04)

IN02-05 (Mar. 1, 2002)(IN03-05)

IN02-06 (Mar. 1, 2002)(IN03-06)

IN02-07 (Mar. 1, 2002)(IN03-07)

IN02-08 (Mar. 1, 2002)(IN03-08)

IN02-09 (Mar. 1, 2002)(IN03-09)

IN02-10 (Mar. 1, 2002)(IN03-10)

IN02-11 (Mar. 1, 2002)(IN03-11)

IN02-12 (Mar. 1, 2002)(IN03-12)

IN02-13 (Mar. 1, 2002)(IN03-13)

IN02-14 (Mar. 1, 2002)(IN03-14)

IN02-15 (Mar. 1, 2002)(IN03-15)

IN02-16 (Mar. 1, 2002)(IN03-16)

IN02-17 (Mar. 1, 2002)(IN03-17)

IN02-18 (Mar. 1, 2002)(IN03-18)

IN02-19 (Mar. 1, 2002)(IN03-19)

IN02-20 (Mar. 1, 2002)(IN03-20)

IN02-21 (Mar. 1, 2002)(IN03-21)

Michigan

MI02-01 (Mar. 1, 2002)(MI03-01)

MI02-02 (Mar. 1, 2002)(MI03-02)

MI02-03 (Mar. 1, 2002)(MI03-03)

MI02-04 (Mar. 1, 2002)(MI03-04)

MI02-05 (Mar. 1, 2002)(MI03-05)

MI02-06 (Mar. 1, 2002)(MI03-06)

MI02-07 (Mar. 1, 2002)(MI03-07)

MI02-08 (Mar. 1, 2002)(MI03-08)

MI02-09 (Mar. 1, 2002)(MI03-09)

MI02-10 (Mar. 1, 2002)(MI03-10)

MI02-11 (Mar. 1, 2002)(MI03-11)

MI02-12 (Mar. 1, 2002)(MI03-12)

MI02-13 (Mar. 1, 2002)(MI03-13)

MI02-14 (Mar. 1, 2002)(MI03-14)

MI02-15 (Mar. 1, 2002)(MI03-15)

MI02-16 (Mar. 1, 2002)(MI03-16)

MI02-17 (Mar. 1, 2002)(MI03-17)

MI02-18 (Mar. 1, 2002)(MI03-18)

MI02-19 (Mar. 1, 2002)(MI03-19)

MI02-20 (Mar. 1, 2002)(MI03-20)

MI02-21 (Mar. 1, 2002)(MI03-21)

MI02-22 (Mar. 1, 2002)(MI03-22)

MI02-23 (Mar. 1, 2002)(MI03-23)

MI02-24 (Mar. 1, 2002)(MI03-24)

MI02-25 (Mar. 1, 2002)(MI03-25)

MI02-26 (Mar. 1, 2002)(MI03-26)

MI02-27 (Mar. 1, 2002)(MI03-27)

MI02-28 (Mar. 1, 2002)(MI03-28)

MI02-29 (Mar. 1, 2002)(MI03-29)

MI02-30 (Mar. 1, 2002)(MI03-30)

MI02-31 (Mar. 1, 2002)(MI03-31)

MI02-32 (Mar. 1, 2002)(MI03-32)

MI02-33 (Mar. 1, 2002)(MI03-33)

MI02-34 (Mar. 1, 2002)(MI03-34)

MI02-35 (Mar. 1, 2002)(MI03-35)

MI02-36 (Mar. 1, 2002)(MI03-36)

MI02-37 (Mar. 1, 2002)(MI03-37)

MI02-38 (Mar. 1, 2002)(MI03-38)

MI02-39 (Mar. 1, 2002)(MI03-39)

MI02-40 (Mar. 1, 2002)(MI03-40)

MI02-41 (Mar. 1, 2002)(MI03-41)

MI02-42 (Mar. 1, 2002)(MI03-42)

MI02-43 (Mar. 1, 2002)(MI03-43)

MI02-44 (Mar. 1, 2002)(MI03-44)

MI02-45 (Mar. 1, 2002)(MI03-45)

MI02-46 (Mar. 1, 2002)(MI03-46)

MI02-47 (Mar. 1, 2002)(MI03-47)

MI02-48 (Mar. 1, 2002)(MI03-48)

MI02-49 (Mar. 1, 2002)(MI03-49)

MI02-50 (Mar. 1, 2002)(MI03-50)

MI02-51 (Mar. 1, 2002)(MI03-51)

MI02-52 (Mar. 1, 2002)(MI03-52)

MI02-53 (Mar. 1, 2002)(MI03-53)

MI02-54 (Mar. 1, 2002)(MI03-54)

MI02-55 (Mar. 1, 2002)(MI03-55)

MI02-56 (Mar. 1, 2002)(MI03-56)

MI02-57 (Mar. 1, 2002)(MI03-57)

MI02-58 (Mar. 1, 2002)(MI03-58)

MI02-59 (Mar. 1, 2002)(MI03-59)

MI02-60 (Mar. 1, 2002)(MI03-60)

MI02-61 (Mar. 1, 2002)(MI03-61)

MI02-62 (Mar. 1, 2002)(MI03-62)

MI02-63 (Mar. 1, 2002)(MI03-63)

MI02-64 (Mar. 1, 2002)(MI03-64)

MI02-65 (Mar. 1, 2002)(MI03-65)

MI02-66 (Mar. 1, 2002)(MI03-66)

MI02-67 (Mar. 1, 2002)(MI03-67)

MI02-68 (Mar. 1, 2002)(MI03-68)

MI02-69 (Mar. 1, 2002)(MI03-69)

MI02-70 (Mar. 1, 2002)(MI03-70)

MI02-71 (Mar. 1, 2002)(MI03-71)

MI02-72 (Mar. 1, 2002)(MI03-72)

MI02-73 (Mar. 1, 2002)(MI03-73)

MI02-74 (Mar. 1, 2002)(MI03-74)

MI02-75 (Mar. 1, 2002)(MI03-75)

MI02-76 (Mar. 1, 2002)(MI03-76)

MI02-77 (Mar. 1, 2002)(MI03-77)

MI02-78 (Mar. 1, 2002)(MI03-78)

MI02-79 (Mar. 1, 2002)(MI03-79)

MI02-80 (Mar. 1, 2002)(MI03-80)

MI02-81 (Mar. 1, 2002)(MI03-81)

MI02-82 (Mar. 1, 2002)(MI03-82)

MI02-83 (Mar. 1, 2002)(MI03-83)

MI02-84 (Mar. 1, 2002)(MI03-84)

MI02-85 (Mar. 1, 2002)(MI03-85)

MI02-86 (Mar. 1, 2002)(MI03-86)

MI02-87 (Mar. 1, 2002)(MI03-87)

MI02-88 (Mar. 1, 2002)(MI03-88)

MI02-89 (Mar. 1, 2002)(MI03-89)

MI02-90 (Mar. 1, 2002)(MI03-90)

MI02-91 (Mar. 1, 2002)(MI03-91)

MI02-92 (Mar. 1, 2002)(MI03-92)

MI02-93 (Mar. 1, 2002)(MI03-93)

MI02-94 (Mar. 1, 2002)(MI03-94)

MI02-95 (Mar. 1, 2002)(MI03-95)

MI02-96 (Mar. 1, 2002)(MI03-96)

MI02-97 (Mar. 1, 2002)(MI03-97)

MI02-98 (Mar. 1, 2002)(MI03-98)

MI02-99 (Mar. 1, 2002)(MI03-99)

MI02-100 (Mar. 1, 2002)(MI03-100)

MI02-101 (Mar. 1, 2002)(MI03-101)

MI02-102 (Mar. 1, 2002)(MI03-102)

MI02-103 (Mar. 1, 2002)(MI03-103)

MI02-104 (Mar. 1, 2002)(MI03-104)

MI02-105 (Mar. 1, 2002)(MI03-105)

MI02-106 (Mar. 1, 2002)(MI03-106)

Minnesota

MN02-01 (Mar. 1, 2002)(MN03-01)

MN02-02 (Mar. 1, 2002)(MN03-02)

MN02-03 (Mar. 1, 2002)(MN03-03)

MN02-04 (Mar. 1, 2002)(MN03-04)

MN02-05 (Mar. 1, 2002)(MN03-05)

MN02-06 (Mar. 1, 2002)(MN03-06)

MN02-07 (Mar. 1, 2002)(MN03-07)

MN02-08 (Mar. 1, 2002)(MN03-08)

MN02-09 (Mar. 1, 2002)(MN03-09)

MN02-10 (Mar. 1, 2002)(MN03-10)

MN02-11 (Mar. 1, 2002)(MN03-11)

MN02-12 (Mar. 1, 2002)(MN03-12)

MN02-13 (Mar. 1, 2002)(MN03-13)

MN02-14 (Mar. 1, 2002)(MN03-14)

MN02-15 (Mar. 1, 2002)(MN03-15)

MN02-16 (Mar. 1, 2002)(MN03-16)

MN02-17 (Mar. 1, 2002)(MN03-17)

MN02-18 (Mar. 1, 2002)(MN03-18)

MN02-19 (Mar. 1, 2002)(MN03-19)

MN02-20 (Mar. 1, 2002)(MN03-20)

MN02-21 (Mar. 1, 2002)(MN03-21)

MN02-22 (Mar. 1, 2002)(MN03-22)

MN02-23 (Mar. 1, 2002)(MN03-23)

MN02-24 (Mar. 1, 2002)(MN03-24)

MN02-25 (Mar. 1, 2002)(MN03-25)

MN02-26 (Mar. 1, 2002)(MN03-26)

MN02-27 (Mar. 1, 2002)(MN03-27)

MN02-28 (Mar. 1, 2002)(MN03-28)

MN02-29 (Mar. 1, 2002)(MN03-29)

MN02-30 (Mar. 1, 2002)(MN03-30)

MN02-31 (Mar. 1, 2002)(MN03-31)

MN02-32 (Mar. 1, 2002)(MN03-32)

MN02-33 (Mar. 1, 2002)(MN03-33)

MN02-34 (Mar. 1, 2002)(MN03-34)

MN02-35 (Mar. 1, 2002)(MN03-35)

MN02-36 (Mar. 1, 2002)(MN03-36)

MN02-37 (Mar. 1, 2002)(MN03-37)

MN02-38 (Mar. 1, 2002)(MN03-38)

MN02-39 (Mar. 1, 2002)(MN03-39)

MN02-40 (Mar. 1, 2002)(MN03-40)

MN02-41 (Mar. 1, 2002)(MN03-41)

MN02-42 (Mar. 1, 2002)(MN03-42)

MN02-43 (Mar. 1, 2002)(MN03-43)

MN02-44 (Mar. 1, 2002)(MN03-44)

MN02-45 (Mar. 1, 2002)(MN03-45)

MN02-46 (Mar. 1, 2002)(MN03-46)

MN02-47 (Mar. 1, 2002)(MN03-47)

MN02-48 (Mar. 1, 2002)(MN03-48)

MN02-49 (Mar. 1, 2002)(MN03-49)

MN02-50 (Mar. 1, 2002)(MN03-50)

MN02-51 (Mar. 1, 2002)(MN03-51)

MN02-52 (Mar. 1, 2002)(MN03-52)

MN02-53 (Mar. 1, 2002)(MN03-53)

MN02-54 (Mar. 1, 2002)(MN03-54)

MN02-55 (Mar. 1, 2002)(MN03-55)

MN02-56 (Mar. 1, 2002)(MN03-56)

MN02-57 (Mar. 1, 2002)(MN03-57)

MN02-58 (Mar. 1, 2002)(MN03-58)

MN02-59 (Mar. 1, 2002)(MN03-59)

MN02-60 (Mar. 1, 2002)(MN03-60)

MN02-61 (Mar. 1, 2002)(MN03-61)

MN02-62 (Mar. 1, 2002)(MN03-62)

Ohio

OH02-01 (Mar. 1, 2002)(OH03-01)

OH02-02 (Mar. 1, 2002)(OH03-02)

OH02-03 (Mar. 1, 2002)(OH03-03)

OH02-04 (Mar. 1, 2002)(OH03-04)

OH02-05 (Mar. 1, 2002)(OH03-05)

OH02-06 (Mar. 1, 2002)(OH03-06)

OH02-07 (Mar. 1, 2002)(OH03-07)

OH02-08 (Mar. 1, 2002)(OH03-08)

OH02-09 (Mar. 1, 2002)(OH03-09)

OH02-10 (Mar. 1, 2002)(OH03-10)

OH02-11 (Mar. 1, 2002)(OH03-11)

OH02-12 (Mar. 1, 2002)(OH03-12)

OH02-13 (Mar. 1, 2002)(OH03-13)

OH02-14 (Mar. 1, 2002)(OH03-14)

OH02-15 (Mar. 1, 2002)(OH03-15)

OH02-16 (Mar. 1, 2002)(OH03-16)

OH02-17 (Mar. 1, 2002)(OH03-17)

OH02-18 (Mar. 1, 2002)(OH03-18)

OH02-19 (Mar. 1, 2002)(OH03-19)

OH02-20 (Mar. 1, 2002)(OH03-20)

OH02-21 (Mar. 1, 2002)(OH03-21)

OH02-22 (Mar. 1, 2002)(OH03-22)

OH02-23 (Mar. 1, 2002)(OH03-23)

OH02-24 (Mar. 1, 2002)(OH03-24)

OH02-25 (Mar. 1, 2002)(OH03-25)

OH02-26 (Mar. 1, 2002)(OH03-26)

OH02-27 (Mar. 1, 2002)(OH03-27)

OH02-28 (Mar. 1, 2002)(OH03-28)

OH02-29 (Mar. 1, 2002)(OH03-29)

OH02-30 (Mar. 1, 2002)(OH03-30)

OH02-31 (Mar. 1, 2002)(OH03-31)

OH02-32 (Mar. 1, 2002)(OH03-32)

OH02-33 (Mar. 1, 2002)(OH03-33)

OH02-34 (Mar. 1, 2002)(OH03-34)

OH02-35 (Mar. 1, 2002)(OH03-35)

OH02-36 (Mar. 1, 2002)(OH03-36)

OH02-37 (Mar. 1, 2002)(OH03-37)

OH02-38 (Mar. 1, 2002)(OH03-38)

Wisconsin

WI02-01 (Mar. 1, 2002)(WI03-01)

WI02-02 (Mar. 1, 2002)(WI03-02)

WI02-03 (Mar. 1, 2002)(WI03-03)

WI02-04 (Mar. 1, 2002)(WI03-04)

WI02-05 (Mar. 1, 2002)(WI03-05)

WI02-06 (Mar. 1, 2002)(WI03-06)

WI02-07 (Mar. 1, 2002)(WI03-07)

WI02-08 (Mar. 1, 2002)(WI03-08)

WI02-09 (Mar. 1, 2002)(WI03-09)

WI02-10 (Mar. 1, 2002)(WI03-10)

W102-11 (Mar. 1, 2002)(W103-11)

W102-12 (Mar. 1, 2002)(W103-12)

W102-13 (Mar. 1, 2002)(W103-13)

W102-14 (Mar. 1, 2002)(W103-14)

W102-15 (Mar. 1, 2002)(W103-15)

W102-16 (Mar. 1, 2002)(W103-16)

W102-17 (Mar. 1, 2002)(W103-17)

W102-18 (Mar. 1, 2002)(W103-18)

W102-19 (Mar. 1, 2002)(W103-19)

W102-20 (Mar. 1, 2002)(W103-20)

W102-21 (Mar. 1, 2002)(W103-21)

W102-22 (Mar. 1, 2002)(W103-22)

W102-23 (Mar. 1, 2002)(W103-23)

W102-24 (Mar. 1, 2002)(W103-24)

W102-25 (Mar. 1, 2002)(W103-25)

W102-26 (Mar. 1, 2002)(W103-26)

W102-27 (Mar. 1, 2002)(W103-27)

W102-28 (Mar. 1, 2002)(W103-28)

W102-29 (Mar. 1, 2002)(W103-29)

W102-30 (Mar. 1, 2002)(W103-30)

W102-31 (Mar. 1, 2002)(W103-31)

W102-32 (Mar. 1, 2002)(W103-32)

W102-33 (Mar. 1, 2002)(W103-33)

W102-34 (Mar. 1, 2002)(W103-34)

W102-35 (Mar. 1, 2002)(W103-35)

W102-36 (Mar. 1, 2002)(W103-36)

W102-37 (Mar. 1, 2002)(W103-37)

W102-38 (Mar. 1, 2002)(W103-38)

W102-39 (Mar. 1, 2002)(W103-39)

W102-40 (Mar. 1, 2002)(W103-40)

W102-41 (Mar. 1, 2002)(W103-41)

W102-42 (Mar. 1, 2002)(W103-42)

W102-43 (Mar. 1, 2002)(W103-43)

W102-44 (Mar. 1, 2002)(W103-44)

W102-45 (Mar. 1, 2002)(W103-45)

W102-46 (Mar. 1, 2002)(W103-46)

W102-47 (Mar. 1, 2002)(W103-47)

W102-48 (Mar. 1, 2002)(W103-48)

Volume V

Arkansas

AR02-01 (Mar. 1, 2002)(AR03-01)

AR02-02 (Mar. 1, 2002)(AR03-02)

AR02-03 (Mar. 1, 2002)(AR03-03)

AR02-04 (Mar. 1, 2002)(AR03-04)

AR02-05 (Mar. 1, 2002)(AR03-05)

AR02-06 (Mar. 1, 2002)(AR03-06)

AR02-07 (Mar. 1, 2002)(AR03-07)

AR02-08 (Mar. 1, 2002)(AR03-08)

AR02-09 (Mar. 1, 2002)(AR03-09)

AR02-10 (Mar. 1, 2002)(AR03-10)

AR02-11 (Mar. 1, 2002)(AR03-11)

AR02-12 (Mar. 1, 2002)(AR03-12)

AR02-13 (Mar. 1, 2002)(AR03-13)

AR02-14 (Mar. 1, 2002)(AR03-14)

AR02-15 (Mar. 1, 2002)(AR03-15)

AR02-16 (Mar. 1, 2002)(AR03-16)

AR02-17 (Mar. 1, 2002)(AR03-17)

AR02-18 (Mar. 1, 2002)(AR03-18)

AR02-19 (Mar. 1, 2002)(AR03-19)

AR02-20 (Mar. 1, 2002)(AR03-20)

AR02-21 (Mar. 1, 2002)(AR03-21)

AR02-22 (Mar. 1, 2002)(AR03-22)

AR02-23 (Mar. 1, 2002)(AR03-23)

AR02-24 (Mar. 1, 2002)(AR03-24)

AR02-25 (Mar. 1, 2002)(AR03-25)

AR02-26 (Mar. 1, 2002)(AR03-26)

AR02-27 (Mar. 1, 2002)(AR03-27)

AR02-28 (Mar. 1, 2002)(AR03-28)

AR02-29 (Mar. 1, 2002)(AR03-29)

AR02-30 (Mar. 1, 2002)(AR03-30)

AR02-31 (Mar. 1, 2002)(AR03-31)

AR02-32 (Mar. 1, 2002)(AR03-32)

AR02-33 (Mar. 1, 2002)(AR03-33)

AR02-34 (Mar. 1, 2002)(AR03-34)

AR02-35 (Mar. 1, 2002)(AR03-35)

AR02-36 (Mar. 1, 2002)(AR03-36)

AR02-37 (Mar. 1, 2002)(AR03-37)

AR02-38 (Mar. 1, 2002)(AR03-38)

AR02-39 (Mar. 1, 2002)(AR03-39)

AR02-40 (Mar. 1, 2002)(AR03-40)

AR02-41 (Mar. 1, 2002)(AR03-41)

AR02-42 (Mar. 1, 2002)(AR03-42)

AR02-43 (Mar. 1, 2002)(AR03-43)

AR02-44 (Mar. 1, 2002)(AR03-44)

AR02-45 (Mar. 1, 2002)(AR03-45)

AR02-46 (Mar. 1, 2002)(AR03-46)

Iowa

IA02-01 (Mar. 1, 2002)(IA03-01)

IA02-02 (Mar. 1, 2002)(IA03-02)

IA02-03 (Mar. 1, 2002)(IA03-03)

IA02-04 (Mar. 1, 2002)(IA03-04)

IA02-05 (Mar. 1, 2002)(IA03-05)

IA02-06 (Mar. 1, 2002)(IA03-06)

IA02-07 (Mar. 1, 2002)(IA03-07)

IA02-08 (Mar. 1, 2002)(IA03-08)

IA02-09 (Mar. 1, 2002)(IA03-09)

IA02-10 (Mar. 1, 2002)(IA03-10)

IA02-11 (Mar. 1, 2002)(IA03-11)

IA02-12 (Mar. 1, 2002)(IA03-12)

IA02-13 (Mar. 1, 2002)(IA03-13)

IA02-14 (Mar. 1, 2002)(IA03-14)

IA02-15 (Mar. 1, 2002)(IA03-15)

IA02-16 (Mar. 1, 2002)(IA03-16)

IA02-17 (Mar. 1, 2002)(IA03-17)

IA02-18 (Mar. 1, 2002)(IA03-18)

IA02-19 (Mar. 1, 2002)(IA03-19)

IA02-20 (Mar. 1, 2002)(IA03-20)

IA02-21 (Mar. 1, 2002)(IA03-21)

IA02-22 (Mar. 1, 2002)(IA03-22)

IA02-23 (Mar. 1, 2002)(IA03-23)

IA02-24 (Mar. 1, 2002)(IA03-24)

IA02-25 (Mar. 1, 2002)(IA03-25)

IA02-26 (Mar. 1, 2002)(IA03-26)

IA02-27 (Mar. 1, 2002)(IA03-27)

IA02-28 (Mar. 1, 2002)(IA03-28)

IA02-29 (Mar. 1, 2002)(IA03-29)

IA02-30 (Mar. 1, 2002)(IA03-30)

IA02-31 (Mar. 1, 2002)(IA03-31)

IA02-32 (Mar. 1, 2002)(IA03-32)

IA02-33 (Mar. 1, 2002)(IA03-33)

IA02-34 (Mar. 1, 2002)(IA03-34)

IA02-35 (Mar. 1, 2002)(IA03-35)

IA02-36 (Mar. 1, 2002)(IA03-36)

IA02-37 (Mar. 1, 2002)(IA03-37)

IA02-38 (Mar. 1, 2002)(IA03-38)

IA02-39 (Mar. 1, 2002)(IA03-39)

IA02-40 (Mar. 1, 2002)(IA03-40)

IA02-41 (Mar. 1, 2002)(IA03-41)

IA02-42 (Mar. 1, 2002)(IA03-42)

IA02-43 (Mar. 1, 2002)(IA03-43)

IA02-44 (Mar. 1, 2002)(IA03-44)

IA02-45 (Mar. 1, 2002)(IA03-45)

IA02-46 (Mar. 1, 2002)(IA03-46)

IA02-47 (Mar. 1, 2002)(IA03-47)

IA02-48 (Mar. 1, 2002)(IA03-48)

IA02-49 (Mar. 1, 2002)(IA03-49)

IA02-50 (Mar. 1, 2002)(IA03-50)

IA02-51 (Mar. 1, 2002)(IA03-51)

IA02-52 (Mar. 1, 2002)(IA03-52)

IA02-53 (Mar. 1, 2002)(IA03-53)

IA02-54 (Mar. 1, 2002)(IA03-54)

IA02-55 (Mar. 1, 2002)(IA03-55)

IA02-56 (Mar. 1, 2002)(IA03-56)

IA02-57 (Mar. 1, 2002)(IA03-57)

IA02-58 (Mar. 1, 2002)(IA03-58)

IA02-59 (Mar. 1, 2002)(IA03-59)

IA02-60 (Mar. 1, 2002)(IA03-60)

IA02-61 (Mar. 1, 2002)(IA03-61)

IA02-62 (Mar. 1, 2002)(IA03-62)

IA02-63 (Mar. 1, 2002)(IA03-63)

IA02-64 (Mar. 1, 2002)(IA03-64)

IA02-65 (Mar. 1, 2002)(IA03-65)

IA02-66 (Mar. 1, 2002)(IA03-66)

IA02-67 (Mar. 1, 2002)(IA03-67)

IA02-68 (Mar. 1, 2002)(IA03-68)

IA02-69 (Mar. 1, 2002)(IA03-69)

Kansas

KS02-01 (Mar. 1, 2002)(KS03-01)

KS02-02 (Mar. 1, 2002)(KS03-02)

KS02-03 (Mar. 1, 2002)(KS03-03)

KS02-04 (Mar. 1, 2002)(KS03-04)

KS02-05 (Mar. 1, 2002)(KS03-05)

KS02-06 (Mar. 1, 2002)(KS03-06)

KS02-07 (Mar. 1, 2002)(KS03-07)

KS02-08 (Mar. 1, 2002)(KS03-08)

KS02-09 (Mar. 1, 2002)(KS03-09)

KS02-10 (Mar. 1, 2002)(KS03-10)

KS02-11 (Mar. 1, 2002)(KS03-11)

KS02-12 (Mar. 1, 2002)(KS03-12)

KS02-13 (Mar. 1, 2002)(KS03-13)

KS02-14 (Mar. 1, 2002)(KS03-14)

KS02-15 (Mar. 1, 2002)(KS03-15)

KS02-16 (Mar. 1, 2002)(KS03-16)

KS02-17 (Mar. 1, 2002)(KS03-17)

KS02-18 (Mar. 1, 2002)(KS03-18)

KS02-19 (Mar. 1, 2002)(KS03-19)

KS02-20 (Mar. 1, 2002)(KS03-20)

KS02-21 (Mar. 1, 2002)(KS03-21)

KS02-22 (Mar. 1, 2002)(KS03-22)

KS02-23 (Mar. 1, 2002)(KS03-23)

KS02-24 (Mar. 1, 2002)(KS03-24)

KS02-25 (Mar. 1, 2002)(KS03-25)

KS02-26 (Mar. 1, 2002)(KS03-26)

KS02-27 (Mar. 1, 2002)(KS03-27)

KS02-28 (Mar. 1, 2002)(KS03-28)

KS02-29 (Mar. 1, 2002)(KS03-29)

KS02-30 (Mar. 1, 2002)(KS03-30)

KS02-31 (Mar. 1, 2002)(KS03-31)

KS02-32 (Mar. 1, 2002)(KS03-32)

KS02-33 (Mar. 1, 2002)(KS03-33)

KS02-34 (Mar. 1, 2002)(KS03-34)

KS02-35 (Mar. 1, 2002)(KS03-35)

KS02-36 (Mar. 1, 2002)(KS03-36)

KS02-37 (Mar. 1, 2002)(KS03-37)

KS02-38 (Mar. 1, 2002)(KS03-38)

KS02-39 (Mar. 1, 2002)(KS03-39)

KS02-40 (Mar. 1, 2002)(KS03-40)

KS02-41 (Mar. 1, 2002)(KS03-41)

KS02-42 (Mar. 1, 2002)(KS03-42)

KS02-43 (Mar. 1, 2002)(KS03-43)

KS02-44 (Mar. 1, 2002)(KS03-44)

KS02-45 (Mar. 1, 2002)(KS03-45)

KS02-46 (Mar. 1, 2002)(KS03-46)

KS02-47 (Mar. 1, 2002)(KS03-47)

KS02-48 (Mar. 1, 2002)(KS03-48)

KS02-49 (Mar. 1, 2002)(KS03-49)

KS02-50 (Mar. 1, 2002)(KS03-50)

KS02-51 (Mar. 1, 2002)(KS03-51)

KS02-52 (Mar. 1, 2002)(KS03-52)

KS02-53 (Mar. 1, 2002)(KS03-53)

KS02-54 (Mar. 1, 2002)(KS03-54)

KS02-55 (Mar. 1, 2002)(KS03-55)

KS02-56 (Mar. 1, 2002)(KS03-56)

KS02-57 (Mar. 1, 2002)(KS03-57)

KS02-58 (Mar. 1, 2002)(KS03-58)

KS02-59 (Mar. 1, 2002)(KS03-59)

KS02-60 (Mar. 1, 2002)(KS03-60)

KS02-61 (Mar. 1, 2002)(KS03-61)

KS02-62 (Mar. 1, 2002)(KS03-62)

KS02-63 (Mar. 1, 2002)(KS03-63)

KS02-64 (Mar. 1, 2002)(KS03-64)

KS02-65 (Mar. 1, 2002)(KS03-65)

KS02-66 (Mar. 1, 2002)(KS03-66)

KS02-67 (Mar. 1, 2002)(KS03-67)

KS02-68 (Mar. 1, 2002)(KS03-68)

Louisiana

LA02-01 (Mar. 1, 2002)(LA03-01)

LA02-02 (Mar. 1, 2002)(LA03-02)

LA02-03 (Mar. 1, 2002)(LA03-03)

LA02-04 (Mar. 1, 2002)(LA03-04)

LA02-05 (Mar. 1, 2002)(LA03-05)

LA02-06 (Mar. 1, 2002)(LA03-06)

LA02-07 (Mar. 1, 2002)(LA03-07)

LA02-08 (Mar. 1, 2002)(LA03-08)

LA02-09 (Mar. 1, 2002)(LA03-09)

LA02-10 (Mar. 1, 2002)(LA03-10)

LA02-11 (Mar. 1, 2002)(LA03-11)

LA02-12 (Mar. 1, 2002)(LA03-12)

LA02-13 (Mar. 1, 2002)(LA03-13)

LA02-14 (Mar. 1, 2002)(LA03-14)

LA02-15 (Mar. 1, 2002)(LA03-15)

LA02-16 (Mar. 1, 2002)(LA03-16)

LA02-17 (Mar. 1, 2002)(LA03-17)

LA02-18 (Mar. 1, 2002)(LA03-18)

LA02-19 (Mar. 1, 2002)(LA03-19)

LA02-20 (Mar. 1, 2002)(LA03-20)

LA02-21 (Mar. 1, 2002)(LA03-21)

LA02-22 (Mar. 1, 2002)(LA03-22)

LA02-23 (Mar. 1, 2002)(LA03-23)

LA02-24 (Mar. 1, 2002)(LA03-24)

LA02-25 (Mar. 1, 2002)(LA03-25)

LA02-26 (Mar. 1, 2002)(LA03-26)

LA02-27 (Mar. 1, 2002)(LA03-27)

LA02-28 (Mar. 1, 2002)(LA03-28)

LA02-29 (Mar. 1, 2002)(LA03-29)

LA02-30 (Mar. 1, 2002)(LA03-30)

LA02-31 (Mar. 1, 2002)(LA03-31)

LA02-32 (Mar. 1, 2002)(LA03-32)

LA02-33 (Mar. 1, 2002)(LA03-33)

LA02-34 (Mar. 1, 2002)(LA03-34)

LA02-35 (Mar. 1, 2002)(LA03-35)

LA02-36 (Mar. 1, 2002)(LA03-36)

LA02-37 (Mar. 1, 2002)(LA03-37)

LA02-38 (Mar. 1, 2002)(LA03-38)

LA02-39 (Mar. 1, 2002)(LA03-39)

LA02-40 (Mar. 1, 2002)(LA03-40)

LA02-41 (Mar. 1, 2002)(LA03-41)

LA02-42 (Mar. 1, 2002)(LA03-42)

LA02-43 (Mar. 1, 2002)(LA03-43)

LA02-44 (Mar. 1, 2002)(LA03-44)

LA02-45 (Mar. 1, 2002)(LA03-45)

LA02-46 (Mar. 1, 2002)(LA03-46)

LA02-47 (Mar. 1, 2002)(LA03-47)

LA02-48 (Mar. 1, 2002)(LA03-48)

LA02-49 (Mar. 1, 2002)(LA03-49)

LA02-50 (Mar. 1, 2002)(LA03-50)

LA02-51 (Mar. 1, 2002)(LA03-51)

LA02-52 (Mar. 1, 2002)(LA03-52)

LA02-53 (Mar. 1, 2002)(LA03-53)

LA02-54 (Mar. 1, 2002)(LA03-54)

Missouri

MO02-01 (Mar. 1, 2002)(MO03-01)

MO02-02 (Mar. 1, 2002)(MO03-02)

MO02-03 (Mar. 1, 2002)(MO03-03)

MO02-04 (Mar. 1, 2002)(MO03-04)

MO02-05 (Mar. 1, 2002)(MO03-05)

MO02-06 (Mar. 1, 2002)(MO03-06)

MO02-07 (Mar. 1, 2002)(MO03-07)

MO02-08 (Mar. 1, 2002)(MO03-08)

MO02-09 (Mar. 1, 2002)(MO03-09)

MO02-10 (Mar. 1, 2002)(MO03-10)

MO02-11 (Mar. 1, 2002)(MO03-11)

MO02-12 (Mar. 1, 2002)(MO03-12)

MO02-13 (Mar. 1, 2002)(MO03-13)

MO02-14 (Mar. 1, 2002)(MO03-14)

MO02-15 (Mar. 1, 2002)(MO03-15)

MO02-16 (Mar. 1, 2002)(MO03-16)

MO02-17 (Mar. 1, 2002)(MO03-17)

MO02-18 (Mar. 1, 2002)(MO03-18)

MO02-19 (Mar. 1, 2002)(MO03-19)

MO02-20 (Mar. 1, 2002)(MO03-20)

MO02-21 (Mar. 1, 2002)(MO03-21)

MO02-22 (Mar. 1, 2002)(MO03-22)

MO02-23 (Mar. 1, 2002)(MO03-23)

MO02-24 (Mar. 1, 2002)(MO03-24)

MO02-25 (Mar. 1, 2002)(MO03-25)

MO02-26 (Mar. 1, 2002)(MO03-26)

MO02-27 (Mar. 1, 2002)(MO03-27)

MO02-28 (Mar. 1, 2002)(MO03-28)

MO02-29 (Mar. 1, 2002)(MO03-29)

MO02-30 (Mar. 1, 2002)(MO03-30)

MO02-31 (Mar. 1, 2002)(MO03-31)

MO02-32 (Mar. 1, 2002)(MO03-32)

MO02-33 (Mar. 1, 2002)(MO03-33)

MO02-34 (Mar. 1, 2002)(MO03-34)

MO02-35 (Mar. 1, 2002)(MO03-35)

MO02-36 (Mar. 1, 2002)(MO03-36)

MO02-37 (Mar. 1, 2002)(MO03-37)

MO02-38 (Mar. 1, 2002)(MO03-38)

MO02-39 (Mar. 1, 2002)(MO03-39)

MO02-40 (Mar. 1, 2002)(MO03-40)

MO02-41 (Mar. 1, 2002)(MO03-41)

MO02-42 (Mar. 1, 2002)(MO03-42)

MO02-43 (Mar. 1, 2002)(MO03-43)

MO02-44 (Mar. 1, 2002)(MO03-44)

MO02-45 (Mar. 1, 2002)(MO03-45)

MO02-46 (Mar. 1, 2002)(MO03-46)

MO02-47 (Mar. 1, 2002)(MO03-47)

MO02-48 (Mar. 1, 2002)(MO03-48)

MO02-49 (Mar. 1, 2002)(MO03-49)

MO02-50 (Mar. 1, 2002)(MO03-50)

MO02-51 (Mar. 1, 2002)(MO03-51)

MO02-52 (Mar. 1, 2002)(MO03-52)

MO02-53 (Mar. 1, 2002)(MO03-53)

MO02-54 (Mar. 1, 2002)(MO03-54)

MO02-55 (Mar. 1, 2002)(MO03-55)

MO02-56 (Mar. 1, 2002)(MO03-56)

MO02-57 (Mar. 1, 2002)(MO03-57)

MO02-58 (Mar. 1, 2002)(MO03-58)

MO02-59 (Mar. 1, 2002)(MO03-59)

MO02-60 (Mar. 1, 2002)(MO03-60)

MO02-61 (Mar. 1, 2002)(MO03-61)

Nebraska

NE02-01 (Mar. 1, 2002)(NE03-01)

NE02-02 (Mar. 1, 2002)(NE03-02)

NE02-03 (Mar. 1, 2002)(NE03-03)

NE02-04 (Mar. 1, 2002)(NE03-04)

NE02-05 (Mar. 1, 2002)(NE03-05)

NE02-06 (Mar. 1, 2002)(NE03-06)

NE02-07 (Mar. 1, 2002)(NE03-07)

NE02-08 (Mar. 1, 2002)(NE03-08)

NE02-09 (Mar. 1, 2002)(NE03-09)

NE02-10 (Mar. 1, 2002)(NE03-10)

NE02-11 (Mar. 1, 2002)(NE03-11)

NE02-12 (Mar. 1, 2002)(NE03-12)

NE02-13 (Mar. 1, 2002)(NE03-13)

NE02-14 (Mar. 1, 2002)(NE03-14)

NE02-15 (Mar. 1, 2002)(NE03-15)

NE02-16 (Mar. 1, 2002)(NE03-16)

NE02-17 (Mar. 1, 2002)(NE03-17)

NE02-18 (Mar. 1, 2002)(NE03-18)

NE02-19 (Mar. 1, 2002)(NE03-19)

NE02-20 (Mar. 1, 2002)(NE03-20)

NE02-21 (Mar. 1, 2002)(NE03-21)

NE02-22 (Mar. 1, 2002)(NE03-22)

NE02-23 (Mar. 1, 2002)(NE03-23)

NE02-24 (Mar. 1, 2002)(NE03-24)

NE02-25 (Mar. 1, 2002)(NE03-25)

NE02-26 (Mar. 1, 2002)(NE03-26)

NE02-27 (Mar. 1, 2002)(NE03-27)

NE02-28 (Mar. 1, 2002)(NE03-28)

NE02-29 (Mar. 1, 2002)(NE03-29)

NE02-30 (Mar. 1, 2002)(NE03-30)

NE02-31 (Mar. 1, 2002)(NE03-31)

NE02-32 (Mar. 1, 2002)(NE03-32)

NE02-33 (Mar. 1, 2002)(NE03-33)

NE02-34 (Mar. 1, 2002)(NE03-34)

NE02-35 (Mar. 1, 2002)(NE03-35)

NE02-36 (Mar. 1, 2002)(NE03-36)

NE02-37 (Mar. 1, 2002)(NE03-37)

NE02-38 (Mar. 1, 2002)(NE03-38)

NE02-39 (Mar. 1, 2002)(NE03-39)

NE02-40 (Mar. 1, 2002)(NE03-40)

NE02-41 (Mar. 1, 2002)(NE03-41)

NE02-42 (Mar. 1, 2002)(NE03-42)

NE02-43 (Mar. 1, 2002)(NE03-43)

New Mexico

NM02-01 (Mar. 1, 2002)(NM03-01)

NM02-02 (Mar. 1, 2002)(NM03-02)

NM02-03 (Mar. 1, 2002)(NM03-03)

NM02-04 (Mar. 1, 2002)(NM03-04)

NM02-05 (Mar. 1, 2002)(NM03-05)

NM02-06 (Mar. 1, 2002)(NM03-06)

NM02-07 (Mar. 1, 2002)(NM03-07)

NM02-08 (Mar. 1, 2002)(NM03-08)

NM02-09 (Mar. 1, 2002)(NM03-09)

NM02-10 (Mar. 1, 2002)(NM03-10)

NM02-11 (Mar. 1, 2002)(NM03-11)

Oklahoma

OK02-01 (Mar. 1, 2002)(OK03-01)

OK02-02 (Mar. 1, 2002)(OK03-02)

OK02-03 (Mar. 1, 2002)(OK03-03)

OK02-04 (Mar. 1, 2002)(OK03-04)

OK02-05 (Mar. 1, 2002)(OK03-05)

OK02-06 (Mar. 1, 2002)(OK03-06)

OK02-07 (Mar. 1, 2002)(OK03-07)

OK02-08 (Mar. 1, 2002)(OK03-08)

OK02-09 (Mar. 1, 2002)(OK03-09)

OK02-10 (Mar. 1, 2002)(OK03-10)

OK02-11 (Mar. 1, 2002)(OK03-11)

OK02-12 (Mar. 1, 2002)(OK03-12)

OK02-13 (Mar. 1, 2002)(OK03-13)

OK02-14 (Mar. 1, 2002)(OK03-14)

OK02-15 (Mar. 1, 2002)(OK03-15)

OK02-16 (Mar. 1, 2002)(OK03-16)

OK02-17 (Mar. 1, 2002)(OK03-17)

OK02-18 (Mar. 1, 2002)(OK03-18)

OK02-19 (Mar. 1, 2002)(OK03-19)

OK02-20 (Mar. 1, 2002)(OK03-20)

OK02-21 (Mar. 1, 2002)(OK03-21)

OK02-22 (Mar. 1, 2002)(OK03-22)

OK02-23 (Mar. 1, 2002)(OK03-23)

OK02-24 (Mar. 1, 2002)(OK03-24)

OK02-25 (Mar. 1, 2002)(OK03-25)

OK02-26 (Mar. 1, 2002)(OK03-26)

OK02-27 (Mar. 1, 2002)(OK03-27)

OK02-28 (Mar. 1, 2002)(OK03-28)

OK02-29 (Mar. 1, 2002)(OK03-29)

OK02-30 (Mar. 1, 2002)(OK03-30)

OK02-31 (Mar. 1, 2002)(OK03-31)

OK02-32 (Mar. 1, 2002)(OK03-32)

OK02-33 (Mar. 1, 2002)(OK03-33)

OK02-34 (Mar. 1, 2002)(OK03-34)

OK02-35 (Mar. 1, 2002)(OK03-35)

OK02-36 (Mar. 1, 2002)(OK03-36)

OK02-37 (Mar. 1, 2002)(OK03-37)

OK02-38 (Mar. 1, 2002)(OK03-38)

OK02-39 (Mar. 1, 2002)(OK03-39)

OK02-40 (Mar. 1, 2002)(OK03-40)

OK02-41 (Mar. 1, 2002)(OK03-41)

OK02-42 (Mar. 1, 2002)(OK03-42)

OK02-43 (Mar. 1, 2002)(OK03-43)

OK02-44 (Mar. 1, 2002)(OK03-44)

OK02-45 (Mar. 1, 2002)(OK03-45)

OK02-46 (Mar. 1, 2002)(OK03-46)

Texas

TX02-01 (Mar. 1, 2002)(TX03-01)

TX02-02 (Mar. 1, 2002)(TX03-02)

TX02-03 (Mar. 1, 2002)(TX03-03)

TX02-04 (Mar. 1, 2002)(TX03-04)

TX02-05 (Mar. 1, 2002)(TX03-05)

TX02-06 (Mar. 1, 2002)(TX03-06)

TX02-07 (Mar. 1, 2002)(TX03-07)

TX02-08 (Mar. 1, 2002)(TX03-08)

TX02-09 (Mar. 1, 2002)(TX03-09)

TX02-10 (Mar. 1, 2002)(TX03-10)

TX02-11 (Mar. 1, 2002)(TX03-11)

TX02-12 (Mar. 1, 2002)(TX03-12)

TX02-13 (Mar. 1, 2002)(TX03-13)

TX02-14 (Mar. 1, 2002)(TX03-14)

TX02-15 (Mar. 1, 2002)(TX03-15)

TX02-16 (Mar. 1, 2002)(TX03-16)

TX02-17 (Mar. 1, 2002)(TX03-17)

TX02-18 (Mar. 1, 2002)(TX03-18)

TX02-19 (Mar. 1, 2002)(TX03-19)

TX02-20 (Mar. 1, 2002)(TX03-20)

TX02-21 (Mar. 1, 2002)(TX03-21)

TX02-22 (Mar. 1, 2002)(TX03-22)

TX02-23 (Mar. 1, 2002)(TX03-23)

TX02-24 (Mar. 1, 2002)(TX03-24)

TX02-25 (Mar. 1, 2002)(TX03-25)

TX02-26 (Mar. 1, 2002)(TX03-26)

TX02-27 (Mar. 1, 2002)(TX03-27)

TX02-28 (Mar. 1, 2002)(TX03-28)

TX02-29 (Mar. 1, 2002)(TX03-29)

TX02-30 (Mar. 1, 2002)(TX03-30)

TX02-31 (Mar. 1, 2002)(TX03-31)

TX02-32 (Mar. 1, 2002)(TX03-32)

TX02-33 (Mar. 1, 2002)(TX03-33)

TX02-34 (Mar. 1, 2002)(TX03-34)

TX02-35 (Mar. 1, 2002)(TX03-35)

TX02-36 (Mar. 1, 2002)(TX03-36)

TX02-37 (Mar. 1, 2002)(TX03-37)

TX02-38 (Mar. 1, 2002)(TX03-38)

TX02-39 (Mar. 1, 2002)(TX03-39)

TX02-40 (Mar. 1, 2002)(TX03-40)

TX02-41 (Mar. 1, 2002)(TX03-41)

TX02-42 (Mar. 1, 2002)(TX03-42)

TX02-43 (Mar. 1, 2002)(TX03-43)

TX02-44 (Mar. 1, 2002)(TX03-44)

TX02-45 (Mar. 1, 2002)(TX03-35)

TX02-46 (Mar. 1, 2002)(TX03-46)

TX02-47 (Mar. 1, 2002)(TX03-47)

TX02-48 (Mar. 1, 2002)(TX03-48)

TX02-49 (Mar. 1, 2002)(TX03-49)

TX02-50 (Mar. 1, 2002)(TX03-50)

TX02-51 (Mar. 1, 2002)(TX03-51)

TX02-52 (Mar. 1, 2002)(TX03-52)

TX02-53 (Mar. 1, 2002)(TX03-53)

TX02-54 (Mar. 1, 2002)(TX03-54)

TX02-55 (Mar. 1, 2002)(TX03-55)

TX02-56 (Mar. 1, 2002)(TX03-56)

TX02-57 (Mar. 1, 2002)(TX03-57)

TX02-58 (Mar. 1, 2002)(TX03-58)

TX02-59 (Mar. 1, 2002)(TX03-59)

TX02-60 (Mar. 1, 2002)(TX03-60)

TX02-61 (Mar. 1, 2002)(TX03-61)

TX02-62 (Mar. 1, 2002)(TX03-62)

TX02-63 (Mar. 1, 2002)(TX03-63)

TX02-64 (Mar. 1, 2002)(TX03-64)

TX02-65 (Mar. 1, 2002)(TX03-65)

TX02-66 (Mar. 1, 2002)(TX03-66)

TX02-67 (Mar. 1, 2002)(TX03-67)

TX02-68 (Mar. 1, 2002)(TX03-68)

TX02-69 (Mar. 1, 2002)(TX03-69)

TX02-70 (Mar. 1, 2002)(TX03-70)

TX02-71 (Mar. 1, 2002)(TX03-71)

TX02-72 (Mar. 1, 2002)(TX03-72)

TX02-73 (Mar. 1, 2002)(TX03-73)

TX02-74 (Mar. 1, 2002)(TX03-74)

TX02-75 (Mar. 1, 2002)(TX03-75)

TX02-76 (Mar. 1, 2002)(TX03-76)

TX02-77 (Mar. 1, 2002)(TX03-77)

TX02-78 (Mar. 1, 2002)(TX03-78)

TX02-79 (Mar. 1, 2002)(TX03-79)

TX02-80 (Mar. 1, 2002)(TX03-80)

TX02-81 (Mar. 1, 2002)(TX03-81)

TX02-82 (Mar. 1, 2002)(TX03-82)

TX02-83 (Mar. 1, 2002)(TX03-83)

TX02-84 (Mar. 1, 2002)(TX03-84)

TX02-85 (Mar. 1, 2002)(TX03-85)

TX02-86 (Mar. 1, 2002)(TX03-86)

TX02-87 (Mar. 1, 2002)(TX03-87)

TX02-88 (Mar. 1, 2002)(TX03-88)

TX02-89 (Mar. 1, 2002)(TX03-89)

TX02-90 (Mar. 1, 2002)(TX03-90)

TX02-91 (Mar. 1, 2002)(TX03-91)

TX02-92 (Mar. 1, 2002)(TX03-92)

TX02-93 (Mar. 1, 2002)(TX03-93)

TX02-94 (Mar. 1, 2002)(TX03-94)

TX02-95 (Mar. 1, 2002)(TX03-95)

TX02-96 (Mar. 1, 2002)(TX03-96)

TX02-97 (Mar. 1, 2002)(TX03-97)

TX02-98 (Mar. 1, 2002)(TX03-98)

TX02-99 (Mar. 1, 2002)(TX03-99)

TX02-100 (Mar. 1, 2002)(TX03-100)

TX02-101 (Mar. 1, 2002)(TX03-101)

TX02-102 (Mar. 1, 2002)(TX03-102)

TX02-103 (Mar. 1, 2002)(TX03-103)

TX02-104 (Mar. 1, 2002)(TX03-104)

TX02-105 (Mar. 1, 2002)(TX03-105)

TX02-106 (Mar. 1, 2002)(TX03-106)

TX02-107 (Mar. 1, 2002)(TX03-107)

TX02-108 (Mar. 1, 2002)(TX03-108)

TX02-109 (Mar. 1, 2002)(TX03-109)

TX02-110 (Mar. 1, 2002)(TX03-110)

TX02-111 (Mar. 1, 2002)(TX03-111)

TX02-112 (Mar. 1, 2002)(TX03-112)

TX02-113 (Mar. 1, 2002)(TX03-113)

TX02-114 (Mar. 1, 2002)(TX03-114)

TX02-115 (Mar. 1, 2002)(TX03-115)

TX02-116 (Mar. 1, 2002)(TX03-116)

TX02-117 (Mar. 1, 2002)(TX03-117)

TX02-118 (Mar. 1, 2002)(TX03-118)

TX02-119 (Mar. 1, 2002)(TX03-119)

TX02-120 (Mar. 1, 2002)(TX03-120)

TX02-121 (Mar. 1, 2002)(TX03-121)

Volume VI

Alaska

AK02-01 (Mar. 1, 2002)(AK03-01)

AK02-02 (Mar. 1, 2002)(AK03-02)

AK02-03 (Mar. 1, 2002)(AK03-03)

AK02-04 (Mar. 1, 2002)(AK03-04)

AK02-05 (Mar. 1, 2002)(AK03-05)

AK02-06 (Mar. 1, 2002)(AK03-06)

AK02-07 (Mar. 1, 2002)(AK03-07)

AK02-08 (Mar. 1, 2002)(AK03-08)

Colorado

CO02-01 (Mar. 1, 2002)(CO03-01)

CO02-02 (Mar. 1, 2002)(CO03-02)

CO02-03 (Mar. 1, 2002)(CO03-03)

CO02-04 (Mar. 1, 2002)(CO03-04)

CO02-05 (Mar. 1, 2002)(CO03-05)

CO02-06 (Mar. 1, 2002)(CO03-06)

CO02-07 (Mar. 1, 2002)(CO03-07)

CO02-08 (Mar. 1, 2002)(CO03-08)

CO02-09 (Mar. 1, 2002)(CO03-09)

CO02-10 (Mar. 1, 2002)(CO03-10)

CO02-11 (Mar. 1, 2002)(CO03-11)

CO02-12 (Mar. 1, 2002)(CO03-12)

CO02-13 (Mar. 1, 2002)(CO03-13)

CO02-14 (Mar. 1, 2002)(CO03-14)

CO02-15 (Mar. 1, 2002)(CO03-15)

CO02-16 (Mar. 1, 2002)(CO03-16)

CO02-17 (Mar. 1, 2002)(CO03-17)

Idaho

ID02-01 (Mar. 1, 2002)(ID03-01)

ID02-02 (Mar. 1, 2002)(ID03-02)

ID02-03 (Mar. 1, 2002)(ID03-03)

ID02-04 (Mar. 1, 2002)(ID03-04)

ID02-05 (Mar. 1, 2002)(ID03-05)

ID02-06 (Mar. 1, 2002)(ID03-06)

ID02-07 (Mar. 1, 2002)(ID03-07)

ID02-08 (Mar. 1, 2002)(ID03-08)

ID02-09 (Mar. 1, 2002)(ID03-09)

ID02-10 (Mar. 1, 2002)(ID03-10)

ID02-11 (Mar. 1, 2002)(ID03-11)

ID02-12 (Mar. 1, 2002)(ID03-12)

ID02-13 (Mar. 1, 2002)(ID03-13)

ID02-14 (Mar. 1, 2002)(ID03-14)

Montana

MT02-01 (Mar. 1, 2002)(MT03-01)

MT02-02 (Mar. 1, 2002)(MT03-02)

MT02-03 (Mar. 1, 2002)(MT03-03)

MT02-04 (Mar. 1, 2002)(MT03-04)

MT02-05 (Mar. 1, 2002)(MT03-05)

MT02-06 (Mar. 1, 2002)(MT03-06)

MT02-07 (Mar. 1, 2002)(MT03-07)

MT02-08 (Mar. 1, 2002)(MT03-08)

MT02-09 (Mar. 1, 2002)(MT03-09)

MT02-10 (Mar. 1, 2002)(MT03-10)

MT02-11 (Mar. 1, 2002)(MT03-11)

MT02-12 (Mar. 1, 2002)(MT03-12)

MT02-13 (Mar. 1, 2002)(MT03-13)

MT02-14 (Mar. 1, 2002)(MT03-14)

MT02-15 (Mar. 1, 2002)(MT03-15)

MT02-16 (Mar. 1, 2002)(MT03-16)

MT02-17 (Mar. 1, 2002)(MT03-17)

MT02-18 (Mar. 1, 2002)(MT03-18)

MT02-19 (Mar. 1, 2002)(MT03-19)

MT02-20 (Mar. 1, 2002)(MT03-20)

MT02-21 (Mar. 1, 2002)(MT03-21)

MT02-22 (Mar. 1, 2002)(MT03-22)

MT02-23 (Mar. 1, 2002)(MT03-23)

MT02-24 (Mar. 1, 2002)(MT03-24)

MT02-25 (Mar. 1, 2002)(MT03-25)

MT02-26 (Mar. 1, 2002)(MT03-26)

MT02-27 (Mar. 1, 2002)(MT03-27)

MT02-28 (Mar. 1, 2002)(MT03-28)

MT02-29 (Mar. 1, 2002)(MT03-29)

MT02-30 (Mar. 1, 2002)(MT03-30)

MT02-31 (Mar. 1, 2002)(MT03-31)

MT02-32 (Mar. 1, 2002)(MT03-32)

MT02-33 (Mar. 1, 2002)(MT03-33)

MT02-34 (Mar. 1, 2002)(MT03-34)

MT02-35 (Mar. 1, 2002)(MT03-35)

North Dakota

ND02-01 (Mar. 1, 2002)(ND03-01)

ND02-02 (Mar. 1, 2002)(ND03-02)

ND02-03 (Mar. 1, 2002)(ND03-03)

ND02-04 (Mar. 1, 2002)(ND03-04)

ND02-05 (Mar. 1, 2002)(ND03-05)

ND02-06 (Mar. 1, 2002)(ND03-06)

ND02-07 (Mar. 1, 2002)(ND03-07)

ND02-08 (Mar. 1, 2002)(ND03-08)

ND02-09 (Mar. 1, 2002)(ND03-09)

ND02-10 (Mar. 1, 2002)(ND03-10)

ND02-11 (Mar. 1, 2002)(ND03-11)

ND02-12 (Mar. 1, 2002)(ND03-12)

ND02-13 (Mar. 1, 2002)(ND03-13)

ND02-14 (Mar. 1, 2002)(ND03-14)

ND02-15 (Mar. 1, 2002)(ND03-15)

ND02-16 (Mar. 1, 2002)(ND03-16)

ND02-17 (Mar. 1, 2002)(ND03-17)

ND02-18 (Mar. 1, 2002)(ND03-18)

ND02-19 (Mar. 1, 2002)(ND03-19)

Oregon

OR02-01 (Mar. 1, 2002)(OR03-01)

OR02-02 (Mar. 1, 2002)(OR03-02)

OR02-03 (Mar. 1, 2002)(OR03-03)

OR02-04 (Mar. 1, 2002)(OR03-04)

OR02-05 (Mar. 1, 2002)(OR03-05)

OR02-06 (Mar. 1, 2002)(OR03-06)

OR02-07 (Mar. 1, 2002)(OR03-07)

OR02-08 (Mar. 1, 2002)(OR03-08)

OR02-09 (Mar. 1, 2002)(OR03-09)

OR02-10 (Mar. 1, 2002)(OR03-10)

OR02-11 (Mar. 1, 2002)(OR03-11)

OR02-12 (Mar. 1, 2002)(OR03-12)

OR02-13 (Mar. 1, 2002)(OR03-13)

OR02-14 (Mar. 1, 2002)(OR03-14)

OR02-15 (Mar. 1, 2002)(OR03-15)

OR02-16 (Mar. 1, 2002)(OR03-16)

South Dakota

SD02-01 (Mar. 1, 2002)(SD03-01)

SD02-02 (Mar. 1, 2002)(SD03-02)

SD02-03 (Mar. 1, 2002)(SD03-03)

SD02-04 (Mar. 1, 2002)(SD03-04)

SD02-05 (Mar. 1, 2002)(SD03-05)

SD02-06 (Mar. 1, 2002)(SD03-06)

SD02-07 (Mar. 1, 2002)(SD03-07)

SD02-08 (Mar. 1, 2002)(SD03-08)

SD02-09 (Mar. 1, 2002)(SD03-09)

SD02-10 (Mar. 1, 2002)(SD03-10)

Utah

UT02-01 (Mar. 1, 2002)(UT03-01)

UT02-02 (Mar. 1, 2002)(UT03-02)

UT02-03 (Mar. 1, 2002)(UT03-03)

UT02-04 (Mar. 1, 2002)(UT03-04)

UT02-05 (Mar. 1, 2002)(UT03-05)

UT02-06 (Mar. 1, 2002)(UT03-06)

UT02-07 (Mar. 1, 2002)(UT03-07)

UT02-08 (Mar. 1, 2002)(UT03-08)

UT02-09 (Mar. 1, 2002)(UT03-09)

UT02-10 (Mar. 1, 2002)(UT03-10)

UT02-11 (Mar. 1, 2002)(UT03-11)

UT02-12 (Mar. 1, 2002)(UT03-12)

UT02-13 (Mar. 1, 2002)(UT03-13)

UT02-14 (Mar. 1, 2002)(UT03-14)

UT02-15 (Mar. 1, 2002)(UT03-15)

UT02-16 (Mar. 1, 2002)(UT03-16)

UT02-17 (Mar. 1, 2002)(UT03-17)

UT02-18 (Mar. 1, 2002)(UT03-18)

UT02-19 (Mar. 1, 2002)(UT03-19)

UT02-20 (Mar. 1, 2002)(UT03-20)

UT02-21 (Mar. 1, 2002)(UT03-21)

UT02-22 (Mar. 1, 2002)(UT03-22)

UT02-23 (Mar. 1, 2002)(UT03-23)

UT02-24 (Mar. 1, 2002)(UT03-24)

UT02-25 (Mar. 1, 2002)(UT03-25)

UT02-26 (Mar. 1, 2002)(UT03-26)

UT02-27 (Mar. 1, 2002)(UT03-27)

UT02-28 (Mar. 1, 2002)(UT03-28)

UT02-29 (Mar. 1, 2002)(UT03-29)

UT02-30 (Mar. 1, 2002)(UT03-30)

UT02-31 (Mar. 1, 2002)(UT03-31)

UT02-31 (Mar. 1, 2002)(UT03-32)

UT02-33 (Mar. 1, 2002)(UT03-33)

UT02-34 (Mar. 1, 2002)(UT03-34)

UT02-35 (Mar. 1, 2002)(UT03-35)

UT02-36 (Mar. 1, 2002)(UT03-36)

Washington

WA02-01 (Mar. 1, 2002)(WA03-01)

WA02-02 (Mar. 1, 2002)(WA03-02)

WA02-03 (Mar. 1, 2002)(WA03-03)

WA02-04 (Mar. 1, 2002)(WA03-04)

WA02-05 (Mar. 1, 2002)(WA03-05)

WA02-06 (Mar. 1, 2002)(WA03-06)

WA02-07 (Mar. 1, 2002)(WA03-07)

WA02-08 (Mar. 1, 2002)(WA03-08)

WA02-09 (Mar. 1, 2002)(WA03-09)

WA02-10 (Mar. 1, 2002)(WA03-10)

WA02-11 (Mar. 1, 2002)(WA03-11)

WA02-12 (Mar. 1, 2002)(WA03-12)

WA02-13 (Mar. 1, 2002)(WA03-13)

WA02-14 (Mar. 1, 2002)(WA03-14)

WA02-15 (Mar. 1, 2002)(WA03-15)

WA02-16 (Mar. 1, 2002)(WA03-16)

WA02-17 (Mar. 1, 2002)(WA03-17)

WA02-18 (Mar. 1, 2002)(WA03-18)

WA02-19 (Mar. 1, 2002)(WA03-19)

WA02-20 (Mar. 1, 2002)(WA03-20)

WA02-21 (Mar. 1, 2002)(WA03-21)

WA02-22 (Mar. 1, 2002)(WA03-22)

WA02-23 (Mar. 1, 2002)(WA03-23)

WA02-24 (Mar. 1, 2002)(WA03-24)

WA02-25 (Mar. 1, 2002)(WA03-25)

WA02-26 (Mar. 1, 2002)(WA03-26)

WA02-27 (Mar. 1, 2002)(WA03-27)

Wyoming

WY02-01)(Mar. 1, 2002)(WY03-01)

WY02-02)(Mar. 1, 2002)(WY03-02)

WY02-03)(Mar. 1, 2002)(WY03-03)

WY02-04)(Mar. 1, 2002)(WY03-04)

WY02-05)(Mar. 1, 2002)(WY03-05)

WY02-06)(Mar. 1, 2002)(WY03-06)

WY02-07)(Mar. 1, 2002)(WY03-07)

WY02-08)(Mar. 1, 2002)(WY03-08)

WY02-09)(Mar. 1, 2002)(WY03-09)

WY02-10)(Mar. 1, 2002)(WY03-10)

WY02-11)(Mar. 1, 2002)(WY03-11)

WY02-12)(Mar. 1, 2002)(WY03-12)

WY02-13)(Mar. 1, 2002)(WY03-13)

WY02-14)(Mar. 1, 2002)(WY03-14)

WY02-15)(Mar. 1, 2002)(WY03-15)

WY02-16)(Mar. 1, 2002)(WY03-16)

WY02-17)(Mar. 1, 2002)(WY03-17)

WY02-18)(Mar. 1, 2002)(WY03-18)

WY02-19)(Mar. 1, 2002)(WY03-19)

WY02-20)(Mar. 1, 2002)(WY03-20)

WY02-21)(Mar. 1, 2002)(WY03-21)

WY02-22)(Mar. 1, 2002)(WY03-22)

WY02-23)(Mar. 1, 2002)(WY03-23)

WY02-24)(Mar. 1, 2002)(WY03-24)

Volume VII

Arizona

AZ02-01 (Mar. 1, 2002)(AZ03-01)

AZ02-02 (Mar. 1, 2002)(AZ03-02)

AZ02-03 (Mar. 1, 2002)(AZ03-03)

AZ02-04 (Mar. 1, 2002)(AZ03-04)

AZ02-05 (Mar. 1, 2002)(AZ03-05)

AZ02-06 (Mar. 1, 2002)(AZ03-06)

AZ02-07 (Mar. 1, 2002)(AZ03-07)

AZ02-08 (Mar. 1, 2002)(AZ03-08)

AZ02-09 (Mar. 1, 2002)(AZ03-09)

AZ02-10 (Mar. 1, 2002)(AZ03-10)

AZ02-11 (Mar. 1, 2002)(AZ03-11)

AZ02-12 (Mar. 1, 2002)(AZ03-12)

AZ02-13 (Mar. 1, 2002)(AZ03-13)

AZ02-14 (Mar. 1, 2002)(AZ03-14)

AZ02-15 (Mar. 1, 2002)(AZ03-15)

AZ02-16 (Mar. 1, 2002)(AZ03-16)

AZ02-17 (Mar. 1, 2002)(AZ03-17)

AZ02-18 (Mar. 1, 2002)(AZ03-18)

AZ02-19 (Mar. 1, 2002)(AZ03-19)

AZ02-20 (Mar. 1, 2002)(AZ03-20)

California

CA02-01 (Mar. 1, 2002)(CA03-01)

CA02-02 (Mar. 1, 2002)(CA03-02)

CA02-03 (Mar. 1, 2002)(CA03-03)

CA02-04 (Mar. 1, 2002)(CA03-04)

CA02-05 (Mar. 1, 2002)(CA03-05)

CA02-06 (Mar. 1, 2002)(CA03-06)

CA02-07 (Mar. 1, 2002)(CA03-07)

CA02-08 (Mar. 1, 2002)(CA03-08)

CA02-09 (Mar. 1, 2002)(CA03-09)

CA02-10 (Mar. 1, 2002)(CA03-10)

CA02-11 (Mar. 1, 2002)(CA03-11)

CA02-12 (Mar. 1, 2002)(CA03-12)

CA02-13 (Mar. 1, 2002)(CA03-13)

CA02-14 (Mar. 1, 2002)(CA03-14)

CA02-15 (Mar. 1, 2002)(CA03-15)

CA02-16 (Mar. 1, 2002)(CA03-16)

CA02-17 (Mar. 1, 2002)(CA03-17)

CA02-18 (Mar. 1, 2002)(CA03-18)

CA02-19 (Mar. 1, 2002)(CA03-19)

CA02-20 (Mar. 1, 2002)(CA03-20)

CA02-21 (Mar. 1, 2002)(CA03-21)

CA02-22 (Mar. 1, 2002)(CA03-22)

CA02-23 (Mar. 1, 2002)(CA03-23)

CA02-24 (Mar. 1, 2002)(CA03-24)

CA02-25 (Mar. 1, 2002)(CA03-25)

CA02-26 (Mar. 1, 2002)(CA03-26)

CA02-27 (Mar. 1, 2002)(CA03-27)

CA02-28 (Mar. 1, 2002)(CA03-28)

CA02-29 (Mar. 1, 2002)(CA03-29)

CA02-30 (Mar. 1, 2002)(CA03-30)

CA02-31 (Mar. 1, 2002)(CA03-31)

CA02-32 (Mar. 1, 2002)(CA03-32)

CA02-33 (Mar. 1, 2002)(CA03-33)

CA02-34 (Mar. 1, 2002)(CA03-34)

CA02-35 (Mar. 1, 2002)(CA03-35)

CA02-36 (Mar. 1, 2002)(CA03-36)

CA02-37 (Mar. 1, 2002)(CA03-37)

Hawaii

HI02-01 (Mar. 1, 2002)(HI03-01)

Nevada

NV02-01 (Mar. 1, 2002)(NV03-01)

NV02-02 (Mar. 1, 2002)(NV03-02)

NV02-03 (Mar. 1, 2002)(NV03-03)

NV02-04 (Mar. 1, 2002)(NV03-04)

NV02-05 (Mar. 1, 2002)(NV03-05)

NV02-06 (Mar. 1, 2002)(NV03-06)

NV02-07 (Mar. 1, 2002)(NV03-07)

NV02-08 (Mar. 1, 2002)(NV03-08)

NV02-09 (Mar. 1, 2002)(NV03-09)

Mariana Islands

CM02-01 (Mar. 1, 2002)(CM03-01)

General Wage Determination Publication

General Wage Determinations issued under the Davis-Bacon and related Acts, including those noted above, may be found in the Government Printing Office (GPO) document entitled “General Wage Determinations Issued Under The Davis-Bacon and Related Acts.” This publication is available at each of the 50 Regional Government Depository Libraries and many of the 1,400 Government Depository Libraries across the country.

General wage determinations issued under the Davis-Bacon and related Acts are available electronically at no cost on the Government Printing Office site at http://www.access.gpo.gov/davisbacon. They are also available electronically by subscription to the Davis-Bacon Online Service (http://davisbacon.fedworld.gov) of the National Technical Information Service (NTIS) of the Department of Commerce at 1-800-363-2068. This subscription offers value-added features such as electronic delivery of modified wage decisions directly to the user's desktop, the ability to access prior wage decisions issued during the year, extensive Help Desk Support, etc.

Hard-copy subscriptions may be purchased from: Superintendent of Documents, U.S. Government Printing Office, Washington, DC 20402, (202) 512-1800.

When ordering hard-copy subscription(s), be sure to specify the State(s) of interest, since subscriptions may be ordered for any or all of the seven separate volumes, arranged by State. Subscriptions include an annual edition (issued in January or February) which includes all current general wage determinations for the States covered by each volume. Throughout the remainder of the year, regular weekly updates are distributed to subscribers.

Signed at Washington, DC this 14th day of May 7, 2003.
Carl J. Polesky,
Chief, Branch of Construction Wage Determinations.

[FR Doc. 03-12713 Filed 6-12-03; 8:45 am]

BILLING CODE 4510-27-M